DEPARTMENT OF HOUSING AND URBAN DEVELOPMENT

[Docket No. FR-4557-N-08]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Mr. Jeff Holste, Military Programs, U.S. Army Corps of Engineers, Installation Support Center, Planning & Real Property Branch, Attn: CEMP-IP, 7701 Telegraph Road, Alexandria, VA 22315-3862 (703) 428-6318; COE: Ms. Shirley Middleswarth, Army Corps of Engineers, Management & Disposal Division, Pulaski Bldg., Room 4224, 20 Massachusetts Avenue, NW, Washington, DC 20314-1000; (202) 761-0515; Energy: Mr. Tom Knox, Department of Energy, Office of Contract and Resource Management, MA-53, Washington, DC 20585; (202) 586-8715; GSA: Mr. Brian K. Polly, Assistant Commissioner, General Services Administration, Office of Property Disposal, 18th and F Streets, NW, Washington, DC 20405; (202) 501-0052; Interior: Mr. Al Barth, Property Management, Department of the Interior, 1849 C Street, NW, Mail Stop 5512-MIB, Washington, DC 20240; (202) 208-7283; (These are not toll-free numbers).

Dated: February 17, 2000.
Fred Karnas, Jr.,
Deputy Assistant Secretary for Special Needs Assistance Programs.

TITLE V, FEDERAL SURPLUS PROPERTY PROGRAM FEDERAL REGISTER REPORT FOR 2/25/00

Suitable/Available Properties

Buildings (by State)

Alaska

Bldg. 1

National Guard Armory

Wales Co: AK 99783-

Landholding Agency: Army

Property Number: 21200010077

Status: Unutilized

Comment: 1200 sq. ft., needs major repairs, most recent use—classroom, off-site use only

Bldg. 3

National Guard Armory

Bethel Co: AK 99559-

Landholding Agency: Army

Property Number: 21200010078

Status: Unutilized

Comment: presence of asbestos, most recent use—storage, off-site use only

Arizona

Bldg. 72908

Fort Huachuca

Sierra Vista Co: Cochise AZ 85635-

Landholding Agency: Army

Property Number: 21200010079

Status: Unutilized

Comment: 16,491 sq. ft., presence of asbestos/lead paint, most recent use—veh. maint., off-site use only

Bldg. 63001

Fort Huachuca

Sierra Vista Co: Cochise AZ 85635-

Landholding Agency: Army

Property Number: 21200010080

Status: Unutilized

Comment: 2280 sq. ft., presence of asbestos/lead paint, most recent use—admin., off-site use only

8 Bldgs.

Fort Huachuca

Sierra Vista Co: Cochise AZ 85635-

Location: 13570, 15751, 70650, 70651, 87848, 87850, 87851, 87853

Landholding Agency: Army

Property Number: 21200010081

Status: Unutilized

Comment: various sq. ft., presence of asbestos/lead paint, most recent use—storage, off-site use only

2 Bldgs.

Fort Huachuca

Sierra Vista Co: Cochise AZ 85635-

Location: 15542, 15546

Landholding Agency: Army

Property Number: 21200010082

Status: Unutilized

Comment: 552 & 400 sq. ft., presence of asbestos/lead paint, most recent use—restrooms, off-site use only

2 Bldgs.

Fort Huachuca

Sierra Vista Co: Cochise AZ 85635-

Location: 15544, 15552

Landholding Agency: Army

Property Number: 21200010083

Status: Unutilized

Comment: 9713 & 2895 sq. ft., presence of asbestos/lead paint, most recent use—classrooms, off-site use only

Bldg. 15543

Fort Huachuca

Sierra Vista Co: Cochise AZ 85635-

Landholding Agency: Army

Property Number: 21200010084

Status: Unutilized

Comment: 416 sq. ft., presence of asbestos/lead paint, most recent use—rec. shelter, off-site use only

7 Bldgs.

Fort Huachuca

Sierra Vista Co: Cochise AZ 85635-

Location: 15550, 70108, 70109, 84004, 84107, 84108, 87852

Landholding Agency: Army

Property Number: 21200010085

Status: Unutilized

Comment: various sq. ft., presence of asbestos/lead paint, most recent use—admin., off-site use only

California

Calexico Border Patrol Station

813 Andrade Avenue

Calexico Co: CA 00000-

Landholding Agency: GSA

Property Number: 54199930007

Status: Excess

Comment: 7420 sq. ft.

GSA Number: 9-J-CA-1539

Florida

Crooked River Lighthouse

Carrabelle Co: Franklin FL 32322-

Landholding Agency: GSA

Property Number: 54199940017

Status: Excess

Comment: Lighthouse on 1.29 acres, possible lead base paint, listed on National Register of Historic Places

GSA Number: 4-U-FL-1165

Georgia

Bldg. T-801

Hunter Army Airfield

Savannah Co: Chatham GA 31409-

Landholding Agency: Army

Property Number: 21200010086

Status: Unutilized

Comment: 4660 sq. ft., needs major repairs, most recent use—armory, off-site use only

Bldg. T-807

Hunter Army Airfield

Savannah Co: Chatham GA 31409-

Landholding Agency: Army

Property Number: 21200010087

Status: Unutilized

Comment: 4660 sq. ft., needs major repairs, most recent use—hq. bldg., off-site use only

Bldg. T-809

Hunter Army Airfield

Savannah Co: Chatham GA 31409-

Landholding Agency: Army

Property Number: 21200010088

Status: Unutilized

Comment: 6461 sq. ft., needs major repairs, most recent use—hq. bldg., off-site use only

Hawaii

Bldg. T-3022F

Schofield Barracks

Wahiawa Co: HI 96786-

Landholding Agency: Army

Property Number: 21200010089

Status: Unutilized

Comment: 142 sq. ft., most recent use—storage, off-site use only

Bldg. P-218

Wheeler Army Airfield

Wahiawa Co: HI 96757-

Landholding Agency: Army

Property Number: 21200010091

Status: Unutilized

Comment: 1028 sq. ft., most recent use—service station, off-site use only

Bldg. S-235

Wheeler Army Airfield

Wahiawa Co: HI 96757-

Landholding Agency: Army

Property Number: 21200010092

Status: Unutilized

Comment: 396 sq. ft., most recent use—storage, off-site use only

Illinois

Army Reserve Center

1881 East Fremont Street

Galesburg Co: Knox IL 61401-

Landholding Agency: GSA

Property Number: 54199940008

Status: Excess

Comment: 2 brick buildings (6117 & 1325 sq. ft.), utilities turned off, need repairs, most recent use—storage

GSA Number: 1-D-IL-720

Kansas

Bldg. S-285

Fort Riley

Manhatten Co: Geary KS 66442-

Landholding Agency: Army

Property Number: 21200010093

Status: Unutilized

Comment: 800 sq. ft., metal bldg. w/o windows, most recent use—storage, off-site use only

Project Residence

Perry Lake Drive

Perry Co: Jefferson KS 66073-9727

Landholding Agency: COE

Property Number: 31199940001

Status: Excess

Comment: 1440 sq. ft., off-site use only

Kentucky

Green River Lock & Dam #3

Rochester Co: Butler KY 42273-

Location: SR 70 west from Morgantown, KY., approximately 7 miles to site

Landholding Agency: COE

Property Number: 31199010022

Status: Unutilized

Comment: 980 sq. ft., 2 story wood frame; two story residence; potential utilities; needs major rehab.

Kentucy River Lock and Dam 3

Pleasureville Co: Henry KY 40057-

Location: SR 421 North from Frankfort, KY. to highway 561, right on 561 approximately 3 miles to site

Landholding Agency: COE

Property Number: 31199010060

Status: Unutilized

Comment: 897 sq. ft., 2 story wood frame; structural deficiencies

Bldg. 1

Kentucky River Lock and Dam

Carrolton Co: Carroll KY 41008-

Location: Take I-71 to Carrolton, KY exit, go east on SR #227 to highway 320, then left for about 1.5 miles to site

Landholding Agency: COE

Property Number: 31199011628

Status: Unutilized

Comment: 1530 sq. ft., 2 story wood frame house; subject to periodic flooding; needs rehab.

Bldg. 2

Kentucky River Lock and Dam

Carrolton Co: Carroll KY 41008-

Location: Take I-71 to Carrolton, KY exit, go east on SR #227 to Highway 320, then left for about 1.5 miles to site

Landholding Agency: COE

Property Number: 31199011629

Status: Unutilized

Comment: 1530 sq. ft., 2 story wood frame house; subject to periodic flooding; needs rehab.

Utility Bldg, Nolin River Lake

Moutardier Recreation Site

Co: Edmonson KY

Landholding Agency: COE

Property Number: 31199320002

Status: Unutilized

Comment: 541 sq. ft., concrete block, off-site use only

Bldg.

Rough River Lake Project

Louisville Co: Breckenridge KY 40232-

Landholding Agency: COE

Property Number: 31199920001

Status: Excess

Comment: 496 sq. ft., concrete block, most recent use—water treatment, off-site use only

Maryland

Bldg. 00318

Aberdeen Proving Ground

Aberdeen Co: Harford MD 21005-5001

Landholding Agency: Army

Property Number: 21200010095

Status: Unutilized

Comment: 3388 sq. ft., most recent use—veh. maint. shop/boiler plant, off-site use only

Bldg. 00334

Aberdeen Proving Ground

Aberdeen Co: Harford MD 21005-5001

Landholding Agency: Army

Property Number: 21200010096

Status: Unutilized

Comment: 1250 sq. ft., most recent use—lab, off-site use only

Bldg. 004602

Aberdeen Proving Ground

Aberdeen Co: Harford MD 21005-5001

Landholding Agency: Army

Property Number: 21200010097

Status: Unutilized

Comment: 5994 sq. ft., most recent use—admin.

Bldg. 00615

Aberdeen Proving Ground

Aberdeen Co: Harford MD 21005-5001

Landholding Agency: Army

Property Number: 21200010098

Status: Unutilized

Comment: 10,953 sq. ft., most recent use—auto maint., off-site use only

Bldg. 00680

Aberdeen Proving Ground

Aberdeen Co: Harford MD 21005-5001

Landholding Agency: Army

Property Number: 21200010099

Status: Unutilized

Comment: 2315 sq. ft., most recent use—storage, off-site use only

Bldg. 01095

Aberdeen Proving Ground

Aberdeen Co: Harford MD 21005-5001

Landholding Agency: Army

Property Number: 21200010100

Status: Unutilized

Comment: 280 sq. ft., most recent use—storage, off-site use only

Bldg. 01120

Aberdeen Proving Ground

Aberdeen Co: Harford MD 21005-5001

Landholding Agency: Army

Property Number: 21200010101

Status: Unutilized

Comment: 1564 sq. ft., most recent use—office/machine shop, off-site use only

Bldg. 03031

Aberdeen Proving Ground

Aberdeen Co: Harford MD 21005-5001

Landholding Agency: Army

Property Number: 21200010102

Status: Unutilized

Comment: 1360 sq. ft., most recent use—heating plant

Bldg. 03036

Aberdeen Proving Ground

Aberdeen Co: Harford MD 21005-5001

Landholding Agency: Army

Property Number: 21200010103

Status: Unutilized

Comment: 11,016 sq. ft., most recent use—storage

Bldg. E1370

Aberdeen Proving Ground

Aberdeen Co: Harford MD 21005-5001

Landholding Agency: Army

Property Number: 21200010104

Status: Unutilized

Comment: 3561 sq. ft., most recent use—storage

Bldg. E1376

Aberdeen Proving Ground

Aberdeen Co: Harford MD 21005-5001

Landholding Agency: Army

Property Number: 21200010105

Status: Unutilized

Comment: 10,338 sq. ft., most recent use—maint. shop

Bldg. E1377

Aberdeen Proving Ground

Aberdeen Co: Harford MD 21005-5001

Landholding Agency: Army

Property Number: 21200010106

Status: Unutilized

Comment: 168 sq. ft., most recent use—storage

Bldg. E1386

Aberdeen Proving Ground

Aberdeen Co: Harford MD 21005-5001

Landholding Agency: Army

Property Number: 21200010107

Status: Unutilized

Comment: 251 sq. ft., most recent use—storage, off-site use only

Bldg. E1461

Aberdeen Proving Ground

Aberdeen Co: Harford MD 21005-5001

Landholding Agency: Army

Property Number: 21200010108

Status: Unutilized

Comment: 331 sq. ft., most recent use—storage, off-site use only

Bldg. E1462

Aberdeen Proving Ground

Aberdeen Co: Harford MD 21005-5001

Landholding Agency: Army

Property Number: 21200010109

Status: Unutilized

Comment: 81 sq. ft., most recent use—safety shelter, off-site use only

Bldg. E2150

Aberdeen Proving Ground

Aberdeen Co: Harford MD 21005-5001

Landholding Agency: Army

Property Number: 21200010110

Status: Unutilized

Comment: 1092 sq. ft., most recent use—storage, off-site use only

Bldg. E3242

Aberdeen Proving Ground

Aberdeen Co: Harford MD 21005-5001

Landholding Agency: Army

Property Number: 21200010111

Status: Unutilized

Comment: 2264 sq. ft., most recent use—admin.

Bldg. E3551

Aberdeen Proving Ground

Aberdeen Co: Harford MD 21005-5001

Landholding Agency: Army

Property Number: 21200010112

Status: Unutilized

Comment: 500 sq. ft., most recent use—access control

Bldg. E5177

Aberdeen Proving Ground

Aberdeen Co: Harford MD 21005-5001

Landholding Agency: Army

Property Number: 21200010113

Status: Unutilized

Comment: 142 sq. ft., most recent use—storage

Bldg. E5189

Aberdeen Proving Ground

Aberdeen Co: Harford MD 21005-5001

Landholding Agency: Army

Property Number: 21200010114

Status: Unutilized

Comment: 400 sq. ft., most recent use—storage

Bldg. E5294

Aberdeen Proving Ground

Aberdeen Co: Harford MD 21005-5001

Landholding Agency: Army

Property Number: 21200010115

Status: Unutilized

Comment: 1263 sq. ft., potential contamination, most recent use—storage

Bldg. E5452

Aberdeen Proving Ground

Aberdeen Co: Harford MD 21005-5001

Landholding Agency: Army

Property Number: 21200010116

Status: Unutilized

Comment: 9623 sq. ft., potential contamination, most recent use—storage

Bldg. E5639

Aberdeen Proving Ground

Aberdeen Co: Harford MD 21005-5001

Landholding Agency: Army

Property Number: 21200010117

Status: Unutilized

Comment: 1048 sq. ft., most recent use—storage

Bldgs. E5688, E56898

Aberdeen Proving Ground

Aberdeen Co: Harford MD 21005-5001

Landholding Agency: Army

Property Number: 21200010118

Status: Unutilized

Comment: 153 sq. ft., most recent use—a/c plant

Bldg. E5858

Aberdeen Proving Ground

Aberdeen Co: Harford MD 21005-5001

Landholding Agency: Army

Property Number: 21200010119

Status: Unutilized

Comment: 1121 sq. ft., most recent use—storage

Bldg. E5936

Aberdeen Proving Ground

Aberdeen Co: Harford MD 21005-5001

Landholding Agency: Army

Property Number: 21200010120

Status: Unutilized

Comment: 11,279 sq. ft., most recent use—storage

Former Orndorff Property

NPS Tract #401-61

Smithsburg Co: Washington MD 21740-

Landholding Agency: Interior

Property Number: 61200010001

Status: Excess

Comment: 1100 sq. ft. frame residence, off-site use only

Massachusetts

Crowell Shed

Tract 41-8673

Chatham Co: Barnstable MA 02633-

Landholding Agency: Interior

Property Number: 61199940001

Status: Unutilized

Comment: 120 sq. ft. storage shed, access via 4-wheel drive only over sand trail, off-site use only

Katz, Tract 17-2724

10 Old King's Highway

Truro Co: Barnstable MA 02666-

Landholding Agency: Interior

Property Number: 61199940002

Status: Unutilized

Comment: 878 sq. ft., cement block, most recent use—residential, off-site use only

Carneilia, Tract 17-2725

12 Old King's Highway

Truro Co: Barnstable MA 02666-

Landholding Agency: Interior

Property Number: 61199940003

Status: Unutilized

Comment: 1391 sq. ft., concrete block, most recent use—residential, off-site use only

Simons, Tract 17-2787

6 Head of Pamet Way

Truro Co: Barnstable MA 02666-

Landholding Agency: Interior

Property Number: 61199940004

Status: Unutilized

Comment: 1600 sq. ft., most recent use—residential, off-site use only

Moss, Tract 17-2788

425 Ocean View Drive

Truro Co: Barnstable MA 02666-

Landholding Agency: Interior

Property Number: 61199940005

Status: Unutilized

Comment: 2496 sq. ft. residence plus 2 outbuildings, off-site use only

Barracks 38, 39

off Old Dew Line Road

Truro Co: Barnstable MA 02666-

Landholding Agency: Interior

Property Number: 61199940006

Status: Unutilized

Comment: 5710 sq. ft., 2-story, presence of asbestos, off-site use only

Gips, Tract 21-4837

188 Way #626

Wellfleet Co: Barnstable MA 02667-

Landholding Agency: Interior

Property Number: 61199940007

Status: Unutilized

Comment: 2015 sq. ft., concrete block, most recent use—residential, off-site use only

Weidlinger 19-4136

Valley Road

Wellfleet Co: Barnstable MA 02667-

Landholding Agency: Interior

Property Number: 61199940008

Status: Unutilized

Comment: 1855 sq. ft., most recent use—residential, off-site use only

Minnesota

GAP Filler Radar Site

St. Paul Co: Rice MN 55101-

Landholding Agency: GSA

Property Number: 54199910009

Status: Excess

Comment: 1266 sq. ft., concrete block, presence of asbestos/lead paint, most recent use—storage, zoning requirements

GSA Number: 1-GR(1)-MN-475

MG Clement Trott Mem. USARC

Walker Co: Cass MN 56484-

Landholding Agency: GSA

Property Number: 54199930003

Status: Excess

Comment: 4320 sq. ft. training center and 1316 sq. ft. vehicle maintenance shop, presence of environmental conditions

GSA Number: 1-D-MN-575

Mississippi

Quarters 183

Natchez Trace Parkway

Kosciusko Co: Attala MS 39090-

Landholding Agency: Interior

Property Number: 61199910004

Status: Excess

Comment: 1121 sq. ft., presence of asbestos, most recent use—residential, off-site use only

Quarters 190

Natchez Trace Parkway

Port Gibson Co: Claiborne MS 39150-

Landholding Agency: Interior

Property Number: 61199910005

Status: Excess

Comment: 1121 sq. ft., presence of asbestos, most recent use—residential, off-site use only

Quarters 194

Natchez Trace Parkway

Ackerman Co: Choctaw MS 39725-

Landholding Agency: Interior

Property Number: 61199910006

Status: Excess

Comment: 1121 sq. ft., presence of asbestos, most recent use—residential, off-site use only

Quarters 258

Natchez Trace Parkway

Carlisle Co: Claiborne MS 39049-

Landholding Agency: Interior

Property Number: 61199910007

Status: Excess

Comment: 1121 sq. ft., presence of asbestos, most recent use—residential, off-site use only

Missouri

Bldg. 82

Kansas City Plant

Bannister Road

Kansas City Co: MO 00000-

Landholding Agency: Energy

Property Number: 41199930031

Status: Excess

Comment: 128 sq. ft., concrete, off-site use only

Bldg. 83

Kansas City Plant

Bannister Road

Kansas City Co: MO 00000-

Landholding Agency: Energy

Property Number: 41199930032

Status: Excess

Comment: 166 sq. ft., concrete, off-site use only

Hardesty Federal Complex

607 Hardesty Avenue

Kansas City Co: Jackson MO 64124-3032

Landholding Agency: GSA

Property Number: 54199940001

Status: Excess

Comment: 7 warehouses and support buildings (540 to 216,000 sq. ft.) on 17.47 acres, major rehab, most recent use—storage/office, utilities easement

GSA Number: 7-G-MO-637

New Jersey

Bldg. 66

Armament Research

Picatinny Arsenal Co: Morris NJ 07806-5000

Landholding Agency: Army

Property Number: 21200010094

Status: Unutilized

Comment: 9000 sq. ft., needs rehab, presence of asbestos/lead paint, most recent use—warehouse, off-site use only

Barnegat Recreation Facility

Corner 7th St/Longbeach

Blvd.

Barnegat Light Co: NJ 08006-

Landholding Agency: GSA

Property Number: 54199930001

Status: Surplus

Comment: 2700 sq. ft. cottage on 0.69 acres, presence of asbestos/lead paint, eligible for Historic Register, floodplain, endangered species in area

GSA Number: 1-U-NJ-0641

New Mexico

Roberts, Thomas A

#70, County Rd. 2900

Aztec Co: San Juan NM 87410-

Landholding Agency: Interior

Property Number: 61199910017

Status: Excess

Comment: 2895 sq. ft., most recent use—residential, off-site use only

New York

Bldg. T-23

Fort Drum

Ft. Drum Co: Jefferson NY 13602-

Landholding Agency: Army

Property Number: 21200010121

Status: Unutilized

Comment: 4720 sq. ft., most recent use—aces facility, off-site use only

Bldg. T-1006

Fort Drum

Ft. Drum Co: Jefferson NY 13602-

Landholding Agency: Army

Property Number: 21200010122

Status: Unutilized

Comment: 1880 sq. ft., most recent use—hq. bldg., off-site use only

Bldg. T-2041

Fort Drum

Ft. Drum Co: Jefferson NY 13602-

Landholding Agency: Army

Property Number: 21200010123

Status: Unutilized

Comment: 3464 sq ft., most recent use—maint., off-site use only

Bldg. T-2712

Fort Drum

Ft. Drum Co: Jefferson NY 13602-

Landholding Agency: Army

Property Number: 21200010124

Status: Unutilized

Comment: 400 sq. ft., most recent use—storage, off-site use only

Bldg. T-4818

Fort Drum

Ft. Drum Co: Jefferson NY 13602-

Landholding Agency: Army

Property Number: 21200010125

Status: Unutilized

Comment: 1250 sq. ft., most recent use—classroom, off-site use only

“Terry Hill”

County Road 51

Manorville NY

Landholding Agency: GSA

Property Number: 54199830008

Status: Surplus

Comment: 2 block structures, 780/272 sq. ft., no sanitary facilities, most recent use—storage/comm. facility, w/6.19 acres in fee and 4.99 acre easement, remote area

GSA Number: 1-D-NY-864

Binghampton Depot

Nolans Road

Binghampton Co: NY 00000-

Landholding Agency: GSA

Property Number: 54199910015

Status: Excess

Comment: 45,977 sq. ft., needs repair, presence of asbestos, most recent use—office

GSA Number: 1-G-NY-760A

Ohio

Barker Historic House

Willow Island Locks and Dam

Newport Co: Washington OH 45768-9801

Location: Located at lock site, downstream of lock and dam structure

Landholding Agency: COE

Property Number: 31199120018

Status: Unutilized

Comment: 1600 sq. ft. bldg. with ½ acre of land, 2 story brick frame, needs rehab, on Natl Register of Historic Places, no utilities, off-site use only

Dwelling No. 2

Delaware Lake, Highway 23

North

Delaware OH 43015-

Landholding Agency: COE

Property Number: 31199810005

Status: Excess

Comment: 2-story brick w/basement, most recent use—residential, presence of asbestos/lead paint, off-site use only

Lorain Housing

238-240 Augusta Ave.

Lorain OH 44051-

Landholding Agency: GSA

Property Number: 54199840006

Status: Excess

Comment: 3000 sq. ft. duplex, 2-story, good condition, possible lead based paint, existing easements

GSA Number: 1-U-OH-814

Oklahoma

Bldg. T-1931

Fort Sill

Lawton Co: Comanche OK 73503-5100

Landholding Agency: Army

Property Number: 21200010126

Status: Unutilized

Comment: 807 sq ft., possible asbestos/lead paint, most recent use—storage, off-site use only

Bldg. T-1932

Fort Sill

Lawton Co: Comanche OK 73503-5100

Landholding Agency: Army

Property Number: 21200010127

Status: Unutilized

Comment: 1620 sq. ft., possible asbestos/lead paint, most recent use—storage, off-site use only

Bldg. S-4023

Fort Sill

Lawton Co: Comanche OK 73503-5100

Landholding Agency: Army

Property Number: 21200010128

Status: Unutilized

Comment: 1200 sq. ft., possible asbestos/lead paint, most recent use—storage, off-site use only

Bldg. S-4063

Fort Sill

Lawton Co: Comanche OK 73503-5100

Landholding Agency: Army

Property Number: 21200010129

Status: Unutilized

Comment: 4820 sq. ft., possible asbestos/lead paint, most recent use—classroom, off-site use only

Bldg. T-4751

Fort Sill

Lawton Co: Comanche OK 73503-5100

Landholding Agency: Army

Property Number: 21200010130

Status: Unutilized

Comment: 641 sq. ft., possible asbestos/lead paint, most recent use—storage, off-site use only

Water Treatment Plant

Belle Starr, Eufaula Lake

Eufaula Co: McIntosh OK 74432-

Landholding Agency: COE

Property Number: 31199630001

Status: Excess

Comment: 16′x16′, metal, off-site use only

Water Treatment Plant

Gentry Creek, Eufaula Lake

Eufaula Co: McIntosh OK 74432-

Landholding Agency: COE

Property Number: 31199630002

Status: Excess

Comment: 12′x16′, metal, off-site use only

Pennsylvania

Mahoning Creek Reservoir

New Bethlehem Co: Armstrong PA 16242-

Landholding Agency: COE

Property Number: 31199210008

Status: Unutilized

Comment: 1015 sq. ft., 2 story brick residence, off-site use only

Dwelling

Lock & Dam 6, Allegheny

River, 1260 River Rd.

Freeport Co: Armstrong PA 16229-2023

Landholding Agency: COE

Property Number: 31199620008

Status: Unutilized

Comment: 2652 sq. ft., 3-story brick house, in close proximity to Lock and Dam, available for interim use for nonresidential purposes

Govt. Dwelling

Youghiogheny River Lake

Confluence Co: Fayette PA 15424-9103

Landholding Agency: COE

Property Number: 31199640002

Status: Unutilized

Comment: 1421 sq. ft., 2-story brick w/basement, most recent use—residential

Dwelling

Lock & Dam 4, Allegheny

River

Natrona Co: Allegheny PA 15065-2609

Landholding Agency: COE

Property Number: 31199710009

Status: Unutilized

Comment: 1664 sq. ft., 2-story brick residence, needs repair, off-site use only

Dwelling #1

Crooked Creek Lake

Ford City Co: Armstrong PA 16226-8815

Landholding Agency: COE

Property Number: 31199740002

Status: Excess

Comment: 2030 sq. ft., most recent use—residential, good condition, off-site use only

Dwelling #2

Crooked Creek Lake

Ford City Co: Armstrong PA 16226-8815

Landholding Agency: COE

Property Number: 31199740003

Status: Excess

Comment: 3045 sq. ft., most recent use—residential, good condition, off-site use only

Dwelling #3

Crooked Creek Lake

Ford City Co: Armstrong PA 16226-8815

Landholding Agency: COE

Property Number: 31199740004

Status: Excess

Comment: 1847 sq. ft., most recent use—office, good condition, off-site use only

Govt Dwelling

East Branch Lake

Wilcox Co: Elk PA 15870-9709

Landholding Agency: COE

Property Number: 31199740005

Status: Underutilized

Comment: approx. 5299 sq. ft., 1-story, most recent use—residence, off-site use only

Dwelling #1

Loyalhanna Lake

Saltsburg Co: Westmoreland PA 15681-9302

Landholding Agency: COE

Property Number: 31199740006

Status: Excess

Comment: 1996 sq. ft., most recent use—residential, good condition, off-site use only

Dwelling #2

Loyalhanna Lake

Saltsburg Co: Westmoreland PA 15681-9302

Landholding Agency: COE

Property Number: 31199740007

Status: Excess

Comment: 1996 sq. ft., most recent use—residential, good condition, off-site use only

Dwelling #1

Woodcock Creek Lake

Saegertwon Co: Crawford PA 16433-0629

Landholding Agency: COE

Property Number: 31199740008

Status: Excess

Comment: 2106 sq. ft., most recent use—residential, good condition, off-site use only

Dwelling #2

Lock & Dam 6, 1260 River Road

Freeport Co: Armstrong PA 16229-2023

Landholding Agency: COE

Property Number: 31199740009

Status: Excess

Comment: 2652 sq. ft., most recent use—residential, good condition, off-site use only

Dwelling #2

Youghiogheny River Lake

Confluence Co: Fayette PA 15424-9103

Landholding Agency: COE

Property Number: 31199830003

Status: Excess

Comment: 1421 sq. ft., 2-story + basement, most recent use—residential

Residence/Office

Cowanesque Lake Project

Lawrenceville Co: Tioga PA 16929-

Landholding Agency: COE

Property Number: 31199940002

Status: Unutilized

Comment: 1653 sq. ft. residence, and 2,640 sq. ft. storage bldg., need major repairs, no operating sanitary facilities

Tennessee

Cheatham Lock & Dam

Tract D, Lock Road

Nashville Co: Davidson TN 37207-

Landholding Agency: COE

Property Number: 31199520003

Status: Unutilized

Comment: 1100 sq. ft. w/storage bldgs on 7 acres, needs major rehab, contamination issues, 1 acre in fldwy, off-site use only modif. to struct. subj. to approval of St. Hist. Presv. Ofc.

Texas

Bldg. P-1092

Fort Sam Houston

San Antonio Co: Bexar TX 78234-5000

Landholding Agency: Army

Property Number: 21200010131

Status: Unutilized

Comment: 1080 sq. ft., needs major repairs, possible asbestos/lead paint, most recent use—storage, off-site use only

4 Bldgs.

Fort Sam Houston

S6161, S6162, S6167, S6168

San Antonio Co: Bexar TX 78234-5000

Landholding Agency: Army

Property Number: 21200010132

Status: Unutilized

Comment: 900 sq. ft., needs major repairs, most recent use—admin., off-site use only

Bldg. S1448

Fort Sam Houston

San Antonio Co: Bexar TX

Landholding Agency: Army

Property Number: 21200010133

Status: Unutilized

Comment: 4200 sq. ft., possible asbestos/lead paint, most recent use—admin., off-site use only

Bldg. T5001

Fort Sam Houston

San Antonio Co: Bexar TX 78234-5000

Landholding Agency: Army

Property Number: 21200010134

Status: Unutilized

Comment: 1186 sq. ft., needs major repairs, possible asbestos/lead paint, most recent use—admin., off-site use only

Bldg. S6160

Fort Sam Houston

San Antonio Co: Bexar TX 78234-5000

Landholding Agency: Army

Property Number: 21200010135

Status: Unutilized

Comment: 1200 sq. ft., needs major repairs, most recent use—admin., off-site use only

Bldg. S6163

Fort Sam Houston

San Antonio Co: Bexar TX 78234-5000

Landholding Agency: Army

Property Number: 21200010136

Status: Unutilized

Comment: 3200 sq. ft., needs major repairs, most recent use—admin., off-site use only

Bldg. S6169

Fort Sam Houston

San Antonio Co: Bexar TX 78234-5000

Landholding Agency: Army

Property Number: 21200010137

Status: Unutilized

Comment: 1800 sq. ft., needs major repairs, most recent use—admin., off-site use only

Formerly Naval Rsv Center

1818 N. Confederate St.

Tyler Co: Smith TX 75702-

Landholding Agency: GSA

Property Number: 54199940019

Status: Surplus

Comment: 11,370 sq. ft. bldg./.96 acres, most recent use—reserve center/office, subject to existing easements

GSA Number: 7-N-TX-984A

Virginia

Bldg. T905

Fort Story

Ft. Story Co: VA 23459-

Landholding Agency: Army

Property Number: 21200010138

Status: Unutilized

Comment: 990 sq. ft., most recent use—housing, off-site use only

Bldg. 850

Fort Eustis

Ft. Eustis Co: VA 23604-

Landholding Agency: Army

Property Number: 21200010140

Status: Unutilized

Comment: 12,000 sq. ft., possible asbestos, most recent use—refuse/garbage bldg., off-site use only

Bldgs. 904, 905

Fort Eustis

Ft. Eustis Co: VA 23604-

Landholding Agency: Army

Property Number: 21200010141

Status: Unutilized

Comment: 2892 sq. ft., presence of asbestos, most recent use—thrift shop/development center, off-site use only

Metal Bldg.

John H. Kerr Dam & Reservoir

Co: Boydton VA

Landholding Agency: COE

Property Number: 31199620009

Status: Excess

Comment: 800 sq. ft., most recent use—storage, off-site use only

Former Keith Residence

Flank March Lane

Spotsylvania Co: VA 22553-

Landholding Agency: Interior

Property Number: 61200010002

Status: Excess

Comment: 1232 sq. ft., frame residence, off-site use only

Former Blunk Residence

Wilderness Drive

Spotsylvania Co: VA 22553-

Landholding Agency: Interior

Property Number: 61200010003

Status: Excess

Comment: 1215 sq. ft., residence, off-site use only

Former Brygider Residence

Plank Road

Spotsylvania Co: VA 22553-

Landholding Agency: Interior

Property Number: 61200010004

Status: Excess

Comment: 4320 sq. ft., residence, off-site use only

Former Houston Residence

Sabre Court

Spotsylvania Co: VA 22553-

Landholding Agency: Interior

Property Number: 61200010005

Status: Excess

Comment: 1050 sq. ft. residence, off-site use only

Former Chason Residence

Wilderness Park Drive

Spotsylvania Co: VA 22553-

Landholding Agency: Interior

Property Number: 61200010006

Status: Unutilized

Comment: 1750 sq. ft. residence, off-site use only

Former Bowen Residence

Cavalry Court

Spotsylvania Co: VA 22553-

Landholding Agency: Interior

Property Number: 61200010007

Status: Excess

Comment: 1512 sq. ft. residence, off-site use only

Former Jones Residence

Plantation Drive

Spotsylvania Co: VA 22553-

Landholding Agency: Interior

Property Number: 61200010008

Status: Excess

Comment: 1040 sq. ft. residence, off-site use only

Former Busic House

Brock Rd.

Spotsylvania Co: VA 22553-

Landholding Agency: Interior

Property Number: 61200010009

Status: Excess

Comment: 4128 sq. ft. residence, off-site use only

Washington

Moses Lake U.S. Army Rsv Ctr

Grant County Airport

Moses Lake Co: Grant WA 98837-

Landholding Agency: GSA

Property Number: 21199630118

Status: Surplus

Comment: 4499 sq. ft./2.86 acres, most recent use—admin., temporary permit from COE granted to an organization, FAA recommended land not be used for residential use due to aircraft noise problem, restriction

GSA Number: 9-D-WA-1141

Bldg. 923

Yakima Training Center

Ellensburg Co: Kittitas WA 98926-

Landholding Agency: COE

Property Number: 31200010004

Status: Unutilized

Comment: 2296 sq. ft. w/basement, poor condition, most recent use—residential, off-site use only

West Virginia

Dwelling 1

Summersville Lake

Summersville Co: Nicholas WV 26651-9802

Landholding Agency: COE

Property Number: 31199810003

Status: Excess

Comment: 1200 sq. ft., presence of asbestos/lead paint, most recent use—residential, off-site use only

Dwelling 2

Sutton Lake

Sutton Co: Braxton WV 26651-9802

Landholding Agency: COE

Property Number: 31199810004

Status: Excess

Comment: 1100 sq. ft., most recent use—residential, off-site use only

Wisconsin

Former Lockmaster's Dwelling

Cedar Locks

4527 East Wisconsin Road

Appleton Co: Outagamie WI 54911-

Landholding Agency: COE

Property Number: 31199011524

Status: Unutilized

Comment: 1224 sq. ft.; 2 story brick/wood frame residence; needs rehab; secured area with alternate access.

Former Lockmaster's Dwelling

Appleton 4th Lock

905 South Lowe Street

Appleton Co: Outagamie WI 54911-

Landholding Agency: COE

Property Number: 31199011525

Status: Unutilized

Comment: 908 sq. ft.; 2 story wood frame residence; needs rehab.

Former Lockmaster's Dwelling

Kaukauna 1st Lock

301 Canal Street

Kaukauna Co: Outagamie WI 54131-

Landholding Agency: COE

Property Number: 31199011527

Status: Unutilized

Comment: 1290 sq. ft.; 2 story wood frame residence; needs rehab; secured area with alternate access.

Former Lockmaster's Dwelling

Appleton 1st Lock

905 South Oneida Street

Appleton Co: Outagamie WI 54911-

Landholding Agency: COE

Property Number: 31199011531

Status: Unutilized

Comment: 1300 sq. ft., potential utilities; 2 story wood frame residence; needs rehab; secured area with alternate access.

Former Lockmaster's Dwelling

Rapid Croche Lock

Lock Road

Wrightstown Co: Outagamie WI 54180-

Location: 3 miles southwest of intersection State Highway 96 and Canal Road.

Landholding Agency: COE

Property Number: 31199011533

Status: Unutilized

Comment: 1952 sq. ft.; 2 story wood frame residence; potential utilities; needs rehab.

Former Lockmaster's Dwelling

Little KauKauna Lock

Little KauKauna

Lawrence Co: Brown WI 54130-

Location: 2 miles souteasterly from intersection of Lost Dauphin Road (County Truck Highway “D”) and River Street.

Landholding Agency: COE

Property Number: 31199011535

Status: Unutilized

Comment: 1224 sq. ft.; 2 story brick/wood frame residence; needs rehab.

Former Lockmaster's Dwelling

Little Chute, 2nd Lock

214 Mill Street

Little Chute Co: Outagamie WI 54140-

Landholding Agency: COE

Property Number: 31199011536

Status: Unutilized

Comment: 1224 sq. ft., 2 story brick/wood frame residence; potential utilities; needs rehab; secured area with alternate access.

Land (by State)

Arkansas

Parcel 01

DeGray Lake

Section 12

Arkadelphia Co: Clark AR 71923-9361

Landholding Agency: COE

Property Number: 31199010071

Status: Unutilized

Comment: 77.6 acres

Parcel 02

DeGray Lake

Section 13

Arkadelphia Co: Clark AR 71923-9361

Landholding Agency: COE

Property Number: 31199010072

Status: Unutilized

Comment: 198.5 acres

Parcel 03

DeGray Lake

Section 18

Arkadelphia Co: Clark AR 71923-9361

Landholding Agency: COE

Property Number: 31199010073

Status: Unutilized

Comment: 50.46 acres

Parcel 04

DeGray Lake

Section 24, 25, 30, 31

Arkadelphia Co: Clark AR 71923-9361

Landholding Agency: COE

Property Number: 31199010074

Status: Unutilized

Comment: 236.37 acres

Parcel 05

DeGray Lake

Section 16

Arkadelphia Co: Clark AR 71923-9361

Landholding Agency: COE

Property Number: 31199010075

Status: Unutilized

Comment: 187.30 acres

Parcel 06

DeGray Lake

Section 13

Arkadelphia Co: Clark AR 71923-9361

Landholding Agency: COE

Property Number: 31199010076

Status: Unutilized

Comment: 13.0 acres

Parcel 07

DeGray Lake

Section 34

Arkadelphia Co: Hot Spring AR 71923-9361

Landholding Agency: COE

Property Number: 31199010077

Status: Unutilized

Comment: 0.27 acres

Parcel 08

DeGray Lake

Section 13

Arkadelphia Co: Clark AR 71923-9361

Landholding Agency: COE

Property Number: 31199010078

Status: Unutilized

Comment: 14.6 acres

Parcel 09

DeGray Lake

Section 12

Arkadelphia Co: Hot Spring AR 71923-9361

Landholding Agency: COE

Property Number: 31199010079

Status: Unutilized

Comment: 6.60 acres

Parcel 10

DeGray Lake

Section 12

Arkadelphia Co: Hot Spring AR 71923-9361

Landholding Agency: COE

Property Number: 31199010080

Status: Unutilized

Comment: 4.5 acres

Parcel 11

DeGray Lake

Section 19

Arkadelphia Co: Hot Spring AR 71923-9361

Landholding Agency: COE

Property Number: 31199010081

Status: Unutilized

Comment: 19.50 acres

Lake Greeson

Section 7, 8 and 18

Murfreesboro Co: Pike AR 71958-9720

Landholding Agency: COE

Property Number: 31199010083

Status: Unutilized

Comment: 46 acres

Kansas

Parcel 1

El Dorado Lake

Section 13, 24, and 18

(See County) Co: Butler KS

Landholding Agency: COE

Property Number: 31199010064

Status: Unutilized

Comment: 61 acres; most recent use—recreation.

Kentucky

Tract 2625

Barkley Lake, Kentucky, and Tennessee

Cadiz Co: Trigg KY 42211-

Location: Adjoining the village of Rockcastle.

Landholding Agency: COE

Property Number: 31199010025

Status: Excess

Comment: 2.57 acres; rolling and wooded.

Tract 2709-10 and 2710-2

Barkley Lake, Kentucky and Tennessee

Cadiz Co: Trigg KY 42211-

Location: 2½ miles in a southerly direction from the village of Rockcastle.

Landholding Agency: COE

Property Number: 31199010026

Status: Excess

Comment: 2.00 acres; steep and wooded.

Tract 2708-1 and 2709-1

Barkley Lake, Kentucky and Tennessee

Cadiz Co: Trigg KY 42211-

Location: 2½ miles in a southerly direction from the village of Rockcastle.

Landholding Agency: COE

Property Number: 31199010027

Status: Excess

Comment: 3.59 acres; rolling and wooded; no utilities.

Tract 2800

Barkley Lake, Kentucky and Tennessee

Cadiz Co: Trigg KY 42211-

Location: 4½ miles in a southeasterly direction from the village of Rockcastle.

Landholding Agency: COE

Property Number: 31199010028

Status: Excess

Comment: 5.44 acres; steep and wooded.

Tract 2915

Barkley Lake, Kentucky and Tennessee

Cadiz Co: Trigg KY 42211-

Location: 6½ miles west of Cadiz.

Landholding Agency: COE

Property Number: 31199010029

Status: Excess

Comment: 5.76 acres; steep and wooded; no utilities.

Tract 2702

Barkley Lake, Kentucky and Tennessee

Cadiz Co: Trigg KY 42211-

Location: 1 mile in a southerly direction from the village of Rockcastle.

Landholding Agency: COE

Property Number: 31199010031

Status: Excess

Comment: 4.90 acres; wooded; no utilities.

Tract 4318

Barkley Lake, Kentucky and Tennessee

Canton Co: Trigg KY 42212-

Location: Trigg Co. adjoining the city of Canton, KY. on the waters of Hopson Creek.

Landholding Agency: COE

Property Number: 31199010032

Status: Excess

Comment: 8.24 acres; steep and wooded.

Tract 4502

Barkley Lake, Kentucky and Tennessee

Canton Co: Trigg KY 42212-

Location: 3½ miles in a southerly direction from Canton, KY.

Landholding Agency: COE

Property Number: 31199010033

Status: Excess

Comment: 4.26 acres; steep and wooded.

Tract 4611

Barkley Lake, Kentucky and Tennessee

Canton Co: Trigg KY 42212-

Location: 5 miles south of Canton, KY.

Landholding Agency: COE

Property Number: 31199010034

Status: Excess

Comment: 10.51 acres; steep and wooded; no utilities.

Tract 4619

Barkley Lake, Kentucky and Tennessee

Canton Co: Trigg KY 42212-

Location: 4½ miles south from Canton, KY.

Landholding Agency: COE

Property Number: 31199010035

Status: Excess

Comment: 2.02 acres; steep and wooded; no utilities.

Tract 4817

Barkley Lake, Kentucky and Tennessee

Canton Co: Trigg KY 42212-

Location: 6½ miles south of Canton, KY.

Landholding Agency: COE

Property Number: 31199010036

Status: Excess

Comment: 1.75 acres; wooded.

Tract 1217

Barkley Lake, Kentucky and Tennessee

Eddyville Co: Lyon KY 42030-

Location: On the north side of the Illinois Central Railroad.

Landholding Agency: COE

Property Number: 31199010042

Status: Excess

Comment: 5.80 acres; steep and wooded.

Tract 1906

Barkley Lake, Kentucky and Tennessee

Eddyville Co: Lyon KY 42030-

Location: Approximately 4 miles east of Eddyville, KY.

Landholding Agency: COE

Property Number: 31199010044

Status: Excess

Comment: 25.86 acres; rolling steep and partially wooded; no utilities.

Tract 1907

Barkley Lake, Kentucky and Tennessee

Eddyville Co: KY 42038-

Location: On the waters of Pilfen Creek, 4 miles east of Eddyville, KY

Landholding Agency: COE

Property Number: 31199010045

Status: Excess

Comment: 8.71 acres; rolling steep and wooded; no utilities.

Tract 2001 #1

Barkley Lake, Kentucky and Tennessee

Eddyville Co: Lyon KY 42030-

Location: Approximately 4½ miles east of Eddyville, KY.

Landholding Agency: COE

Property Number: 31199010046

Status: Excess

Comment: 47.42 acres; steep and wooded; no utilities.

Tract 2001 #2

Barkley Lake, Kentucky and Tennessee

Eddyville Co: Lyon KY 42030-

Location: Approximately 4½ miles east of Eddyville, KY.

Landholding Agency: COE

Property Number: 31199010047

Status: Excess

Comment: 8.64 acres; steep and wooded; no utilities.

Tract 2005

Barkley Lake, Kentucky and Tennessee

Eddyville Co: Lyon KY 42030-

Location: Approximately 5½ miles east of Eddyville, KY.

Landholding Agency: COE

Property Number: 31199010048

Status: Excess

Comment: 4.62 acres; steep and wooded; no utilities.

Tract 2307

Barkley Lake, Kentucky and Tennessee

Eddyville Co: Lyon KY 42030-

Location: Approximately 7½ miles southeasterly of Eddyville, KY.

Landholding Agency: COE

Property Number: 31199010049

Status: Excess

Comment: 11.43 acres; steep; rolling and wooded; no utilities.

Tract 2403

Barkley Lake, Kentucky and Tennessee

Eddyville Co: Lyon KY 42030-

Location: 7 miles southeasterly of Eddyville, KY.

Landholding Agency: COE

Property Number: 31199010050

Status: Excess

Comment: 1.56 acres; steep and wooded; no utilities.

Tract 2504

Barkley Lake, Kentucky and Tennessee

Eddyville Co: Lyon KY 42030-

Location: 9 miles southeasterly of Eddyville, KY.

Landholding Agency: COE

Property Number: 31199010051

Status: Excess

Comment: 24.46 acres; steep and wooded; no utilities.

Tract 214

Barkley Lake, Kentucky and Tennessee

Grand Rivers Co: Lyon KY 42045-

Location: South of the Illinois Central Railroad, 1 mile east of the Cumberland River.

Landholding Agency: COE

Property Number: 31199010052

Status: Excess

Comment: 5.5 acres; wooded; no utilities.

Tract 215

Barkley Lake, Kentucky and Tennessee

Grand Rivers Co: Lyon KY 42045-

Location: 5 miles southwest of Kuttawa

Landholding Agency: COE

Property Number: 31199010053

Status: Excess

Comment: 1.40 acres; wooded; no utilities.

Tract 241

Barkley Lake, Kentucky and Tennessee

Grand Rivers Co: Lyon KY 42045-

Location: Old Henson Ferry Road, 6 miles west of Kuttawa, KY.

Landholding Agency: COE

Property Number: 31199010054

Status: Excess

Comment: 1.26 acres; steep and wooded; no utilities.

Tracts 306, 311, 315 and 325

Barkley Lake, Kentucky and Tennessee

Grand Rivers Co: Lyon KY 42045-

Location: 2.5 miles southwest of Kuttawa, KY. on the waters of Cypress Creek.

Landholding Agency: COE

Property Number: 31199010055

Status: Excess

Comment: 38.77 acres; steep and wooded; no utilities.

Tracts 2305, 2306, and 2400-1

Barkley Lake, Kentucky and Tennessee

Eddyville Co: Lyon KY 42030-

Location: 6½ miles southeasterly of Eddyville, KY.

Landholding Agency: COE

Property Number: 31199010056

Status: Excess

Comment: 97.66 acres; steep rolling and wooded; no utilities.

Tracts 5203 and 5204

Barkley Lake, Kentucky and Tennessee

Linton Co: Trigg KY 42212-

Location: Village of Linton, KY state highway 1254.

Landholding Agency: COE

Property Number: 31199010058

Status: Excess

Comment: 0.93 acres; rolling, partially wooded; no utilities.

Tract 5240

Barkley Lake, Kentucky and Tennessee

Linton Co: Trigg KY 42212-

Location: 1 mile northwest of Linton, KY.

Landholding Agency: COE

Property Number: 31199010059

Status: Excess

Comment: 2.26 acres; steep and wooded; no utilities.

Tract 4628

Barkley Lake, Kentucky and Tennessee

Canton Co: Trigg KY 42212-

Location: 4½ miles south from Canton, KY.

Landholding Agency: COE

Property Number: 31199011621

Status: Excess

Comment: 3.71 acres; steep and wooded; subject to utility easements.

Tract 4619-B

Barkley Lake, Kentucky and Tennessee

Canton Co: Trigg KY 42212-

Location: 4½ miles south from Canton, KY.

Landholding Agency: COE

Property Number: 31199011622

Status: Excess

Comment: 1.73 acres; steep and wooded; subject to utility easements.

Tract 2403-B

Barkley Lake, Kentucky and Tennessee

Eddyville Co: Lyon KY 42038-

Location: 7 miles southeasterly from Eddyville, KY.

Landholding Agency: COE

Property Number: 31199011623

Status: Unutilized

Comment: 0.70 acres, wooded; subject to utility easements.

Tract 241-B

Barkley Lake, Kentucky and Tennessee

Grand Rivers Co: Lyon KY 42045-

Location: South of Old Henson Ferry Road, 6 miles west of Kuttawa, KY.

Landholding Agency: COE

Property Number: 31199011624

Status: Excess

Comment: 11.16 acres; steep and wooded; subject to utility easements.

Tracts 212 and 237

Barkley Lake, Kentucky and Tennessee

Grand Rivers Co: Lyon KY 42045-

Location: Old Henson Ferry Road, 6 miles west of Kuttawa, KY.

Landholding Agency: COE

Property Number: 31199011625

Status: Excess

Comment: 2.44 acres; steep and wooded; subject to utility easements.

Tract 215-B

Barkley Lake, Kentucky and Tennessee

Grand Rivers Co: Lyon KY 42045-

Location: 5 miles southwest of Kuttawa

Landholding Agency: COE

Property Number: 31199011626

Status: Excess

Comment: 1.00 acres; wooded; subject to utility easements.

Tract 233

Barkley Lake, Kentucky and Tennessee

Grand Rivers Co: Lyon KY 42045-

Location: 5 miles southwest of Kuttawa

Landholding Agency: COE

Property Number: 31199011627

Status: Excess

Comment: 1.00 acres; wooded; subject to utility easements.

Tract B—Markland Locks & Dam

Hwy 42, 3.5 miles downstream of Warsaw

Warsaw Co: Gallatin KY 41095-

Landholding Agency: COE

Property Number: 31199130002

Status: Unutilized

Comment: 10 acres, most recent use—recreational, possible periodic flooding

Tract A—Markland Locks & Dam

Hwy 42, 3.5 miles downstream of Warsaw

Warsaw Co: Gallatin KY 41095-

Landholding Agency: COE

Property Number: 31199130003

Status: Unutilized

Comment: 8 acres, most recent use—recreational, possible periodic flooding

Tract C—Markland Locks & Dam

Hwy 42, 3.5 miles downstream of Warsaw

Warsaw Co: Gallatin KY 41095-

Landholding Agency: COE

Property Number: 31199130005

Status: Unutilized

Comment: 4 acres, most recent use—recreational, possible periodic flooding

Tract N-819

Dale Hollow Lake & Dam Project

I11will Creek, Hwy 90

Hobart Co: Clinton KY 42601-

Landholding Agency: COE

Property Number: 31199140009

Status: Underutilized

Comment: 91 acres, most recent use—hunting, subject to existing easements

Portion of Lock & Dam No. 1

Kentucky River

Carrolton Co: Carroll KY 41008-0305

Landholding Agency: COE

Property Number: 31199320003

Status: Unutilized

Comment: approx. 3.5 acres (sloping), access monitored

Portion of Lock & Dam No. 2

Kentucky River

Lockport Co: Henry KY 40036-9999

Landholding Agency: COE

Property Number: 31199320004

Status: Underutilized

Comment: aprox. 13.14 acres (sloping), access monitored

Segments 15-19

South Williamson Project

S. Williamson Co: Pike KY 41503-

Landholding Agency: GSA

Property Number: 54199940009

Status: Excess

Comment: 30.4 acres/105 tracts, special floodplain restrictions GSA Number: 4-D-KY-608

Louisiana

Wallace Lake Dam and Reservoir

Shreveport Co: Caddo LA 71103-

Landholding Agency: COE

Property Number: 31199011009

Status: Unutilized

Comment: 10.81 acres; wildlife/forestry; no utilities.

Bayou Bodcau Dam and Reservoir

Haughton Co: Caddo LA 71037-9707

Location: 35 miles Northeast of Shreveport, La.

Landholding Agency: COE

Property Number: 31199011010

Status: Unutilized

Comment: 203 acres; wildlife/forestry; no utilities.

Minnesota

Parcel D

Pine River

Cross Lake Co: Crow Wing MN 56442-

Location: 3 miles from city of Cross Lake, between highways 6 and 371.

Landholding Agency: COE

Property Number: 31199011038

Status: Excess

Comment: 17 acres; no utilities.

Tract 92

Sandy Lake

McGregor Co: Aitkins MN 55760-

Location: 4 miles west of highway 65, 15 miles from city of McGregor.

Landholding Agency: COE

Property Number: 31199011040

Status: Excess

Comment: 4 acres; no utilities.

Tract 98

Leech Lake

Benedict Co: Hubbard MN 56441-

Location: 1 mile from city of Federal Dam, Mn.

Landholding Agency: COE

Property Number: 31199011041

Status: Excess

Comment: 7.3 acres; no utilities.

Mississippi

Parcel 7

Grenada Lake

Sections 22, 23, T24N

Grenada Co: Yalobusha MS 38901-0903

Landholding Agency: COE

Property Number: 31199011019

Status: Underutilized

Comment: 100 acres; no utilities; intermittently used under lease—expires 1994.

Parcel 8

Grenada Lake

Section 20, T24N

Grenada Co: Yalobusha MS 38901-0903

Landholding Agency: COE

Property Number: 31199011020

Status: Underutilized

Comment: 30 acres; no utilities; intermittently used under lease—expires 1994.

Parcel 9

Grenada Lake

Section 20, T24N, R7E

Grenada Co: Yalobusha MS 38901-0903

Landholding Agency: COE

Property Number: 31199011021

Status: Underutilized

Comment: 23 acres; no utilities; intermittently used under lease—expires 1994.

Parcel 10

Grenada Lake

Sections 16, 17, 18, T24N, R8E

Grenada Co: Calhoun MS 38901-0903

Landholding Agency: COE

Property Number: 31199011022

Status: Underutilized

Comment: 490 acres; no utilities; intermittently used under lease—expires 1994.

Parcel 2

Grenada Lake

Section 20, and T23N, R5E

Grenada Co: Grenada MS 38901-0903

Landholding Agency: COE

Property Number: 31199011023

Status: Underutilized

Comment: 60 acres; no utilities; most recent use—wildlife and forestry management.

Parcel 3

Grenada Lake

Section 4, T23N, R5E

Grenada Co: Yalobusha MS 38901-0903

Landholding Agency: COE

Property Number: 31199011024

Status: Underutilized

Comment: 120 acres; no utilities; most recent use—wildlife and forestry management; (13.5 acres/agriculture lease).

Parcel 4

Grenada Lake

Sections 2 and 3. T23N, R5E

Grenada Co: Yalobusha MS 38901-0903

Landholding Agency: COE

Property Number: 31199011025

Status: Underutilized

Comment: 60 acres; no utilities; most recent use—wildlife and forestry management.

Parcel 5

Grenada Lake

Sections 7, T24N, R6E

Grenada Co: Yalobusha MS 38901-0903

Landholding Agency: COE

Property Number: 31199011026

Status: Underutilized

Comment: 20 acres; no utilities; most recent use—wildlife and forestry management; (14 acres/agriculture lease).

Parcel 6

Grenada Lake

Sections 9, T24N, R6E

Grenada Co: Yalobusha MS 38901-0903

Landholding Agency: COE

Property Number: 31199011027

Status: Underutilized

Comment: 80 acres; no utilities; most recent use—wildlife and forestry management.

Parcel 11

Grenada Lake

Section 20, T24N, R8E

Grenada Co: Calhoun MS 38901-0903

Landholding Agency: COE

Property Number: 31199011028

Status: Underutilized

Comment: 30 acres; no utilities; most recent use—wildlife and forestry management.

Parcel 12

Grenada Lake

Section 25, T24N, R7E

Grenada Co: Yalobusha MS 38390-10903

Landholding Agency: COE

Property Number: 31199011029

Status: Underutilized

Comment: 30 acres; no utilities; most recent use—wildlife and forestry management.

Parcel 13

Grenada Lake

Section 34, T24N, R7E

Grenada Co: Yalobusha MS 38903-0903

Landholding Agency: COE

Property Number: 31199011030

Status: Underutilized

Comment: 35 acres; no utilities; most recent use—wildlife and forestry management; (11 acres/agriculture lease).

Parcel 14

Grenada Lake

Section 3, T23N, R6E

Grenada Co: Yalobusha MS 38901-0903

Landholding Agency: COE

Property Number: 31199011031

Status: Underutilized

Comment: 15 acres; no utilities; most recent use—wildlife and forestry management.

Parcel 15

Grenada Lake

Section 4, T24N, R6E

Grenada Co: Yalobusha MS 38901-0903

Landholding Agency: COE

Property Number: 31199011032

Status: Underutilized

Comment: 40 acres; no utilities; most recent use—wildlife and forestry management.

Parcel 16

Grenada Lake

Section 9, T23N, R6E

Grenada Co: Yalobusha MS 38901-0903

Landholding Agency: COE

Property Number: 31199011033

Status: Underutilized

Comment: 70 acres; no utilities; most recent use—wildlife and forestry management.

Parcel 17

Grenada Lake

Section 17, T23N, R7E

Grenada Co: Grenada MS 28901-0903

Landholding Agency: COE

Property Number: 31199011034

Status: Underutilized

Comment: 35 acres; no utilities; most recent use—wildlife and forestry management.

Parcel 18

Grenada Lake

Section 22, T23N, R7E

Grenada Co: Grenada MS 28902-0903

Landholding Agency: COE

Property Number: 31199011035

Status: Underutilized

Comment: 10 acres; no utilities; most recent use—wildlife and forestry management.

Parcel 19

Grenada Lake

Section 9, T22N, R7E

Grenada Co: Grenada MS 38901-0903

Landholding Agency: COE

Property Number: 31199011036

Status: Underutilized

Comment: 20 acres; no utilities; most recent use—wildlife and forestry management.

Missouri

Harry S Truman Dam & Reservoir

Warsaw Co: Benton MO 65355-

Location: Triangular shaped parcel southwest of access road “B”, part of Bledsoe Ferry Park Tract 150.

Landholding Agency: COE

Property Number: 31199030014

Status: Underutilized

Comment: 1.7 acres; potential utilities.

Ohio

Jersey Tower Site

Tract No. 100 & 100E

Jersey Co: Licking OH 00000-

Landholding Agency: GSA

Property Number: 54199910013

Status: Surplus

Comment: 4.24 acres, subject to preservation of wetlands

GSA Number: 1-W-OH-813

Oklahoma

Pine Creek Lake

Section 27

(See County) Co: McCurtain OK

Landholding Agency: COE

Property Number: 31199010923

Status: Unutilized

Comment: 3 acres; no utilities; subject to right of way for Oklahoma State Highway 3.

Pennsylvania

Mahoning Creek Lake

New Bethlehem Co: Armstrong PA 16242-9603

Location: Route 28 north to Belknap, Road #4

Landholding Agency: COE

Property Number: 31199010018

Status: Excess

Comment: 2.58 acres; steep and densely wooded.

Tracts 610, 611, 612

Shenango River Lake

Sharpsville Co: Mercer PA 16150-

Location: I-79 North, I-80 West, Exit Sharon. R18 North 4 miles, left on R518, right on Mercer Avenue.

Landholding Agency: COE

Property Number: 31199011001

Status: Excess

Comment: 24.09 acres; subject to flowage easement

Tracts L24, L26

Crooked Creek Lake

Co: Armstrong PA 03051-

Location: Left bank—55 miles downstream of dam.

Landholding Agency: COE

Property Number: 31199011011

Status: Unutilized

Comment: 7.59 acres; potential for utilities.

Portion of Tract L-21A

Crooked Creek Lake, LR 03051

Ford City Co: Armstrong PA 16226-

Landholding Agency: COE

Property Number: 31199430012

Status: Unutilized

Comment: Approximately 1.72 acres of undeveloped land, subject to gas rights

Puerto Rico

Bahia Rear Range Light

Ocean Drive

Catano Co: PR 00632-

Landholding Agency: GSA

Property Number: 54199940003

Status: Excess

Comment: 0.167 w/skeletal tower, fenced, aid to navigation

GSA Number: 1-T-PR-508

Tennessee

Tract 6827

Barkley Lake

Dover Co: Stewart TN 37058-

Location: 2½ miles west of Dover, TN.

Landholding Agency: COE

Property Number: 31199010927

Status: Excess

Comment: .57 acres; subject to existing easements.

Tracts 6002-2 and 6010

Barkley Lake

Dover Co: Stewart TN 37058-

Location: 3½ miles south of village of Tabaccoport.

Landholding Agency: COE

Property Number: 31199010928

Status: Excess

Comment: 100.86 acres; subject to existing easements.

Tract 11516

Barkley Lake

Ashland City Co: Dickson TN 37015-

Location: ½ mile downstream from Cheatham Dam

Landholding Agency: COE

Property Number: 31199010929

Status: Excess

Comment: 26.25 acres; subject to existing easements.

Tract 2319

J. Percy Priest Dam and Reservoir

Murfreesboro Co: Rutherford TN 37130-

Location: West of Buckeye Bottom Road

Landholding Agency: COE

Property Number: 31199010930

Status: Excess

Comment: 14.48 acres; subject to existing easement.

Tract 2227

J. Percy Priest Dam and Reservoir

Murfreesboro Co: Rutherford TN 37130-

Location: Old Jefferson Pike

Landholding Agency: COE

Property Number: 31199010931

Status: Excess

Comment: 2.27 acres; subject to existing easements.

Tract 2107

J. Percy Priest Dam and Reservoir

Murfreesboro Co: Rutherford TN 37130-

Location: Across Fall Creek near Fall Creek camping area.

Landholding Agency: COE

Property Number: 31199010932

Status: Excess

Comment: 14.85 acres; subject to existing easements.

Tracts 2601, 2602, 2603, 2604

Cordell Hull Lake and Dam Project

Doe Row Creek

Gainesboro Co: Jackson TN 38562-

Location: TN Highway 56

Landholding Agency: COE

Property Number: 31199010933

Status: Unutilized

Comment: 11 acres; subject to existing easements.

Tract 1911

J. Percy Priest Dam and Reservoir

Murfreesboro Co: Rutherford TN 37130-

Location: East of Lamar Road

Landholding Agency: COE

Property Number: 31199010934

Status: Excess

Comment: 15.31 acres; subject to existing easements.

Tract 2321

J. Percy Priest Dam and Reservoir

Murfreesboro Co: Rutherford TN 37130-

Location: South of Old Jefferson Pike

Landholding Agency: COE

Property Number: 31199010935

Status: Excess

Comment: 12 acres; subject to existing easements.

Tract 7206

Barkley Lake

Dover Co: Stewart TN 37058-

Location: 2½ miles SE of Dover, TN.

Landholding Agency: COE

Property Number: 31199010936

Status: Excess

Comment: 10.15 acres; subject to existing easements.

Tracts 8813, 8814

Barkley Lake

Cumberland Co: Stewart TN 37050-

Location: 1½ miles East of Cumberland City.

Landholding Agency: COE

Property Number: 31199010937

Status: Excess

Comment: 96 acres; subject to existing easements.

Tract 8911

Barkley Lake

Cumberland City Co: Montgomery TN 37050-

Location: 4 miles east of Cumberland City.

Landholding Agency: COE

Property Number: 31199010938

Status: Excess

Comment: 7.7 acres; subject to existing easements.

Tract 11503

Barkley Lake

Ashland City Co: Cheatham TN 37015-

Location: 2 miles downstream from Cheatham Dam.

Landholding Agency: COE

Property Number: 31199010939

Status: Excess

Comment: 1.1 acres; subject to existing easements.

Tract 11523, 11524

Barkley Lake

Ashland City Co: Cheatham TN 37015-

Location: 2½ miles downstream from Cheatham Dam.

Landholding Agency: COE

Property Number: 31199010940

Status: Excess

Comment: 19.5 acres; subject to existing easements.

Tract 6410

Barkley Lake

Bumpus Mills Co: Stewart TN 37028-

Location: 4½ miles SW. of Bumpus Mills.

Landholding Agency: COE

Property Number: 31199010941

Status: Excess

Comment: 17 acres; subject to existing easements.

Tract 9707

Barkley Lake

Palmyer Co: Montgomery TN 37142-

Location: 3 miles NE of Palmyer, TN. Highway 149

Landholding Agency: COE

Property Number: 31199010943

Status: Excess

Comment: 6.6 acres; subject to existing easements.

Tract 6949

Barkley Lake

Dover Co: Stewart TN 37058-

Location: 1½ miles SE of Dover, TN.

Landholding Agency: COE

Property Number: 31199010944

Status: Excess

Comment: 29.67 acres; subject to existing easements.

Tracts 6005 and 6017

Barkley Lake

Dover Co: Stewart TN 37058-

Location: 3 miles south of Village of Tobaccoport.

Landholding Agency: COE

Property Number: 31199011173

Status: Excess

Comment: 5 acres; subject to existing easements.

Tracts K-1191, K-1135

Old Hickory Lock and Dam

Hartsville Co: Trousdale TN 37074-

Landholding Agency: COE

Property Number: 31199130007

Status: Underutilized

Comment: 92 acres (38 acres in floodway), most recent use—recreation

Tract A-102

Dale Hollow Lake & Dam Project

Canoe Ridge, State Hwy 52

Celina Co: Clay TN 38551-

Landholding Agency: COE

Property Number: 31199140006

Status: Underutilized

Comment: 351 acres, most recent use—hunting, subject to existing easements

Tract A-102

Dale Hollow Lake & Dam Project

Swann Ridge, State Hwy No. 53

Celina Co: Clay TN 38551-

Landholding Agency: COE

Property Number: 31199140007

Status: Underutilized

Comment: 883 acres, most recent use—hunting, subject to existing easements

Tracts A-20, A-21

Dale Hollow Lake & Dam Project

Red Oak Ridge, State Hwy No. 53

Celina Co: Clay TN 38551-

Landholding Agency: COE

Property Number: 31199140008

Status: Underutilized

Comment: 821 acres, most recent use—recreation, subject to existing easements

Tract D-185

Dale Hollow Lake & Dam Project

Ashburn Creek, Hwy No. 53

Livingston Co: Clay TN 38570-

Landholding Agency: COE

Property Number: 31199140010

Status: Underutilized

Comment: 883 acres, most recent use—hunting, subject to existing easements

Utah

Monticello Mill Tailings Site

Monticello Co: San Juan UT 00000-

Landholding Agency: GSA

Property Number: 54199940020

Status: Excess

Comment: 383.24 acres, listed as an EPA NPL Site—clean up in process, floodplain

GSA Number: 7-B-UT-431-M

Suitable/Unavailable Properties

Buildings (by State)

Alaska

10 Office Buildings

Anchorage Native Medical Center

255 Gambell St.

Anchorage Co: Anchorage AK 99501-

Landholding Agency: GSA

Property Number: 54199710002

Status: Surplus

Comment: high maintenance costs, does not meet Fed. seismic standards, presence of asbestos, PCB's, lead paint

GSA Number: 9-F-AK-750

3 Storage Buildings

Anchorage Native Medical Center

255 Gambell St.

Anchorage Co: Anchorage AK 99501-

Landholding Agency: GSA

Property Number: 54199710003

Status: Surplus

Comment: high maintenance costs, does not meet Fed. seismic standards, presence of asbestos, PCB's, lead paint

GSA Number: 9-F-AK-750

1 Hospital

Anchorage Native Medical Center

255 Gambell St.

Anchorage Co: Anchorage AK 99501-

Landholding Agency: GSA

Property Number: 54199710004

Status: Surplus

Comment: 173,336 sq. ft., high maintenance costs, does not meet Fed. seismic standards, presence of asbestos, PCB's, lead paint

GSA Number: 9-F-AK-750

California

Santa Fe Flood Control Basin

Irwindale Co: Los Angeles CA 91706-

Landholding Agency: COE

Property Number: 31199011298

Status: Unutilized

Comment: 1400 sq. ft., 1 story stucco; needs rehab; termite damage; secured area with alternate access.

112 Bldgs.—Skaggs Island

Naval Security Group

Skaggs Island Co: Sonoma CA

Landholding Agency: GSA

Property Number: 54199730001

Status: Excess

Comment: 32-13,374 sq. ft., temp. quonset huts to perm. wood/concrete most recent use—housing, admin., support facilities, remote location, below sea level, high maintenance

GSA Number: 9-N-CA-1488

Marine Culture Laboratory

Granite Canyon

34500 Coast Highway

Monterey CA 93940-

Landholding Agency: GSA

Property Number: 54199830011

Status: Surplus

Comment: 3297 sq. ft. office bldg. & lab on 4.553 acres, envir. clean-up plans scheduled

GSA Number: 9-C-CA-1499

Natl Weather Svc Station

Blue Canyon Airport

Emigrant Gap CA 95715-

Landholding Agency: GSA

Property Number: 54199840007

Status: Surplus

Comment: 3140 sq. ft., presence of asbestos, most recent use—ofc/residential/storage, land agreements w/U.S. Forest Service exist, special use permit

GSA Number: 9-C-CA-1521

Naval & Marine Corps Readiness

1700 Stadium Way

Los Angeles Co: Los Angeles CA 90012-

Landholding Agency: GSA

Property Number: 54199910005

Status: Excess

Comment: 133,484 sq. ft., suffered seismic damage, presence of asbestos/lead paint, historic convenants, 45% of property will revert to City

GSA Number: 9-N-CA-1523

Eureka Federal Building

5th & H Streets

Eureka Co: CA 95501-

Landholding Agency: GSA

Property Number: 54199930024

Status: Excess

Comment: 23,959 gross sq. ft., needs rehab, presence of asbestos/lead paint, most recent use—post office/office, listed on the National Register of Historic Places

GSA Number: 9-G-CA-1529

Delaware

Unaccompanied Pers. Housing

800 Inlet Road

Rehoboth Beach Co: Sussex DE 19971-2698

Landholding Agency: GSA

Property Number: 54199840009

Status: Excess

Comment: 3600 sq. ft., 2-story, termite damage, most recent use—housing, off-site use only

GSA Number: 4-U-DE-462

District of Columbia

William A. White Bldg.

2700 Martin Luther King Ave., SE

Washington Co: DC 20032-

Landholding Agency: GSA

Property Number: 54199930006

Status: Excess

Comment: 150,952 sq. ft. on 2 acres, needs repair, presence of asbestos/lead paint, controlled access, mental hospital campus, property was published in error as available on 2/11/00.

GSA Number: 4-F-DC-479

Georgia

Federal Building

109 N. Main Street

Lafayette Co: Walker GA 30728-

Landholding Agency: GSA

Property Number: 54199910014

Status: Excess

Comment: approx. 4761 sq. ft., does not meet ADA requirements for accessibility, easements/reservations restrictions, historic protective covenants

GSA Number: 4-G-GA-858

Idaho

Bldg. CFA-613

Central Facilities Area

Idaho National Engineering Lab

Scoville Co: Butte ID 83415-

Landholding Agency: Energy

Property Number: 41199630001

Status: Unutilized

Comment: 1219 sq. ft., most recent use—sleeping quarters, presence of asbestos, off-site use only

Illinois

Bldg. 7

Ohio River Locks & Dam No. 53

Grand Chain Co: Pulaski IL 62941-9801

Location: Ohio River Locks and Dam No. 53 at Grand Chain

Landholding Agency: COE

Property Number: 31199010001

Status: Unutilized

Comment: 900 sq. ft.; 1 floor wood frame; most recent use—residence.

Bldg. 6

Ohio River Locks & Dam No. 53

Grand Chain Co: Pulaski IL 62941-9801

Location: Ohio River Locks and Dam No. 53 at Grand Chain

Landholding Agency: COE

Property Number: 31199010002

Status: Unutilized

Comment: 900 sq. ft.; one floor wood frame; most recent use—residence.

Bldg. 5

Ohio River Locks & Dam No. 53

Grand Chain Co: Pulaski IL 62941-9801

Location: Ohio River Locks and Dam No. 53 at Grand Chain

Landholding Agency: COE

Property Number: 31199010003

Status: Unutilized

Comment: 900 sq. ft.; one floor wood frame; most recent use—residence.

Bldg. 4

Ohio River Locks & Dam No. 53

Grand Chain Co: Pulaski IL 62941-9801

Location: Ohio River Locks and Dam No. 53 at Grand Chain

Landholding Agency: COE

Property Number: 31199010004

Status: Unutilized

Comment: 900 sq. ft.; one floor wood frame; most recent use—residence.

Bldg. 3

Ohio River Locks & Dam No. 53

Grand Chain Co: Pulaski IL 62941-9801

Location: Ohio River Locks and Dam No. 53 at Grand Chain

Landholding Agency: COE

Property Number: 31199010005

Status: Unutilized

Comment: 900 sq. ft.; one floor wood frame.

Bldg. 2

Ohio River Locks & Dam No. 53

Grand Chain Co: Pulaski IL 62941-9801

Location: Ohio River Locks and Dam No. 53 at Grand Chain

Landholding Agency: COE

Property Number: 31199010006

Status: Unutilized

Comment: 900 sq. ft.; one floor wood frame; most recent use—residence.

Bldg. 1

Ohio River Locks & Dam No. 53

Grand Chain Co: Pulaski IL 62941-9801

Location: Ohio River Locks and Dam No. 53 at Grand Chain

Landholding Agency: COE

Property Number: 31199010007

Status: Unutilized

Comment: 900 sq. ft.; one floor wood frame; most recent use—residence.

Radar Communication Link

½ mi east of 116th St.

Co: Will IL

Landholding Agency: GSA

Property Number: 54199820013

Status: Excess

Comment: 297 sq. ft. concrete block bldg. with radar tower antenna, possible lead based paint, most recent use—air traffic control

GSA Number: 2-U-IL-696

Natl Weather Svc. Meter. Obs.

Morris Blacktop Rd.

Miller Township Co: LaSalle IL 61341-

Landholding Agency: GSA

Property Number: 54199820014

Status: Excess

Comment: 1400 sq. ft. office bldg. & 500 sq. ft. garage

GSA Number: 1-C-IL-708

Homewood Natl Guard Facility

1300 West 187th Street

Homewood Co: Cook IL 60430-

Landholding Agency: GSA

Property Number: 54199940002

Status: Excess

Comment: 4 old barracks, 5 storage bldgs., 1 guard house, need major repairs, property was published in error as available on ­2/11/00

GSA Number: 5-D-IL-651

Indiana

Vincennes Federal Building

501 Busseron St.

Vincennes Co: Knox IN 47591-

Landholding Agency: GSA

Property Number: 54199820015

Status: Excess

Comment: 22,000 sq. ft., presence of asbestos, property is historically significant, most recent use—office bldg.

GSA Number: 1-G-IN-592

Former Army Reserve Center

White Oak Park

LaPorte Co: LaPorte IN 00000-

Landholding Agency: GSA

Property Number: 54199920003

Status: Excess

Comment: two—1600 sq. ft. picnic shelters, 4358 sq. ft. paved road, 200 sq. ft. rest room

GSA Number: 1-GR(1)-IN-430E

Maryland

Washington Court Apartments

Maryland Rt. 755

Edgewood Co: Harford MD 21040-

Landholding Agency: GSA

Property Number: 54199940005

Status: Excess

Comment: 55 bldgs. housing 276 apartments, (2 to 4 bedrooms), need repairs, presence of lead based paint, property published in error as available on 2/11/00

GSA Number: 4-D-MD-559

Former Physioc Property

NPS Tract 402-29

Judtown Co: Washington MD 21713-

Landholding Agency: Interior

Property Number: 61199820005

Status: Excess

Comment: 227 sq. ft. stone cabin, off-site use only

Cheltenham Naval Comm. Dtchmt.

9190 Commo Rd., AKA 7700

Redman Rd.

Clinton Co: Prince George MD 20397-5520

Landholding Agency: GSA

Property Number: 77199330010

Status: Excess

Comment: 32 bldgs., various sq. ft., most recent use—admin/comm, & 39 family housing units on 230.35 acres, presence of lead paint/asbestos, 20.09 acres leased to County w/improvements

GSA Number: 4-N-MD-544A

Massachusetts

Ziegler House

National Park, Virginia Road

Lincoln Co: Middlesex MA 10073-

Landholding Agency: Interior

Property Number: 61199830001

Status: Unutilized

Comment: 1661 sq. ft., residential

Michigan

Detroit Job Corps Center

10401 E. Jefferson & 1438

Garland;

1265 St. Clair

Detroit Co: Wayne MI 42128-

Landholding Agency: GSA

Property Number: 54199510002

Status: Surplus

Comment: Main bldg. is 80,590 sq. ft., 5-story, adjacent parking lot, 2nd bldg. on St. Clair Ave. is 5140 sq. ft., presence of asbestos in main bldg., to be vacated 8/97

GSA Number: 2-L-MI-757

Parcel 1

Old Lifeboat Station

East Tawas Co: Iosco MI

Landholding Agency: GSA

Property Number: 54199730011

Status: Excess

Comment: 2062 sq. ft. station bldg., garage, boathouse, oilhouse, possible asbestos/lead paint, eligible for listing on National Register of Historic Places

GSA Number: 1-UU-MI-500

S. Haven Keeper's Dwelling

91 Michigan Ave.

South Haven Co: Van Buren MI 49090-

Landholding Agency: GSA

Property Number: 54199740012

Status: Excess

Comment: 3257 sq. ft. 2-story dwelling and 800 sq. ft. garage, presence of asbestos/lead paint

GSA Number: 1-U-MI-475C

Mississippi

Federal Building

236 Sharkey Street

Clarksdale Co: Coahoma MS 38614-

Landholding Agency: GSA

Property Number: 54199910004

Status: Excess

Comment: 15,233 sq. ft., courthouse

GSA Number: 4-G-MS-553

New York

Reserve Center

Sgt. H. Grover H. O'Connor

USARC

303 N. Lackawanna Street

Wayland Co: Steuben NY 14572-

Landholding Agency: GSA

Property Number: 21199710239

Status: Unutilized

Comment: 2 bldgs., 17, 102 sq. ft. and 1,325 sq. ft., 1-story

GSA Number: 1-D-NY-866

North Carolina

Federal Building

146 North Main Street

Rutherfordton Co: Rutherford NC 28139-

Landholding Agency: GSA

Property Number: 54199730022

Status: Excess

Comment: 4919 sq. ft., most recent use—office, good condition

GSA Number: 4-G-NC-727

Tarheel Army Missile Plant

Burlington Co: Alamance NC 27215-

Landholding Agency: GSA

Property Number: 54199820002

Status: Excess

Comment: 31 bldgs., presence of asbestos, most recent use—admin., warehouse, production space and 10.04 acres parking area, contamination at site—environmental clean up in process

GSA Number: 4-D-NC-593

Coinjock Station

Canal Road

Coinjock Co: Currituck NC 27293-

Landholding Agency: GSA

Property Number: 54199840010

Status: Excess

Comment: 4 bldgs., most recent use—storage/office

GSA Number: 4-U-NC-734

Bodie Island Lighttower

Cape Hatteras

Nags Head Co: Dare NC 27959-

Landholding Agency: GSA

Property Number: 54199910003

Status: Excess

Comment: lighttower, restricted use

GSA Number: 4-U-NC-733

Ohio

Bldg.—Berlin Lake

7400 Bedell Road

Berlin Center Co: Mahoning OH 44401-9797

Landholding Agency: COE

Property Number: 31199640001

Status: Unutilized

Comment: 1420 sq. ft., 2-story brick w/garage and basement, most recent use—residential, secured w/alternate access

Zanesville Federal Building

65 North Fifth Street

Zanesville Co: Muskingum OH

Landholding Agency: GSA

Property Number: 54199520018

Status: Excess

Comment: 18750 sq. ft., most recent use—office, possible asbestos, eligible for listing on the Natl Register of Historic Places

GSA Number: 2-G-OH-781A

Oklahoma

Fed. Bldg./Courthouse

N. Washington & Broadway Streets

Ardmore Co: Carter OK 73402-

Landholding Agency: GSA

Property Number: 54199820009

Status: Excess

Comment: 4000 sq. ft. bldg. w/parking, 3 story plus basement, most recent use—office, subject to historic preservation covenants

GSA Number: 7-G-TX-559

Oregon

Gus Solomon U.S. Courthouse

620 SW Main Street

Portland Co: Multnomah OR 97205-

Landholding Agency: GSA

Property Number: 54199730023

Status: Underutilized

Comment: 15,775 sq. ft., 7-story, does not meet Federal seismic requirements, National Register of Historic Places, pending lease

GSA Number: 7-G-OR-724

Pennsylvania

Tract 353

Grays Landing Lock & Dam Project

Greensboro Co: Greene PA 15338-

Landholding Agency: COE

Property Number: 31199430019

Status: Unutilized

Comment: 812 sq. ft., 2-story, log structure, needs repair, most recent use—residential, if used for habitation must be flood proofed or removed off-site

Tract 403A

Grays Landing Lock & Dam Project

Greensboro Co: Greene PA 15338-

Landholding Agency: COE

Property Number: 31199430021

Status: Unutilized

Comment: 620 sq. ft., 2-story, needs repair, most recent use—residential, if used for habitation must be flood proofed or removed off-site.

Tract 403B

Grays Landing Lock & Dam Project

Greensboro Co: Greene PA 15338-

Landholding Agency: COE

Property Number: 31199430022

Status: Unutilized

Comment: 1600 sq. ft., 2-story, brick structure, needs repair, most recent use—residential, if used for habitation must be flood proofed or removed off-site.

Tract 403C

Grays Landing Lock & Dam Project

Greensboro Co: Greene PA 15338-

Landholding Agency: COE

Property Number: 31199430023

Status: Unutilized

Comment: 672 sq. ft., 2-story carriage house/stable barn type structure, needs repair, most recent use—storage/garage, if used for habitation must be flood proofed or removed

Tract 434

Grays Landing Lock & Dam Project

Greensboro Co: Greene PA 15338-

Landholding Agency: COE

Property Number: 31199430024

Status: Unutilized

Comment: 1059 sq. ft., 2-story, wood frame, 2 apt. units, historic property, if used for habitation must be flood proofed or removed off-site

Tract No. 224

Grays Landing Lock & Dam Project

Greensboro Co: Green PA 15338-

Landholding Agency: COE

Property Number: 31199440001

Status: Unutilized

Comment: 1040 sq. ft., 2 story bldg., needs repair, historic struct., flowage easement, if habitation is desired property will be required to be flood proofed or removed off site

Rices Landing

Tracts A-L, & 1-4

Old Lock & Dam #6

Rices Landing Co: Greene PA 15357-

Landholding Agency: GSA

Property Number: 54199930009

Status: Excess

Comment: 2 residences—1400 sq. ft. ea., need repairs, 1 metal warehouse, 1 shed, possible asbestos/lead paint, property published in error as available on 2/11/00

GSA Number: 4-D-PA-0786

Tennessee

3 Facilities, Guard Posts

Volunteer Army Ammunition Plant

Chattanooga Co: Hamilton TN 37421-

Landholding Agency: GSA

Property Number: 54199930011

Status: Surplus

Comment: 48-64 sq. ft., most recent use—access control, property was published in error as available on 2/11/00

GSA Number: 4-D-TN-594F

4 Bldgs.

Volunteer Army Ammunition Plant

Railroad System Facilities

Chattanooga Co: Hamilton TN 37421-

Landholding Agency: GSA

Property Number: 54199930012

Status: Surplus

Comment: 144-2,420 sq. ft., most recent use—storage/rail weighing facilities/dock, potential use restrictions, property was published in error as available on 2/11/00

GSA Number: 4-D-TN-594F

8 Bldgs.

Volunteer Army Ammunition Plant

Missile Assembly

Chattanooga Co: Hamilton TN 37421-

Landholding Agency: GSA

Property Number: 54199930013

Status: Surplus

Comment: concrete block bldgs. on approx. 100 acres, most recent use—assembly/storage/buffer, potential use restrictions, property was published in error as available on 2/11/00

GSA Number: 4-D-TN-594F

200 bunkers

Volunteer Army Ammunition Plant

Storage Magazines

Chattanooga Co: Hamilton TN 37421-

Landholding Agency: GSA

Property Number: 54199930014

Status: Surplus

Comment: approx. 200 concrete bunkers covering a land area of approx. 4000 acres, most recent use—storage/buffer area, potential use restrictions, property was published in error as available on 2/11/00

GSA Number: 4-D-TN-594F

Bldg. 232

Volunteer Army Ammunition Plant

Chattanooga Co: Hamilton TN 37421-

Landholding Agency: GSA

Property Number: 54199930020

Status: Surplus

Comment: 10,000 sq. ft., most recent use—office, presence of asbestos, approx. 5 acres associated w/bldg., potential use restrictions, property was published in error as available on 2/11/00

GSA Number: 4-D-TN-594F

2 Laboratories

Volunteer Army Ammunition Plant

Chattanooga Co: Hamilton TN 37421-

Landholding Agency: GSA

Property Number: 54199930021

Status: Surplus

Comment: 2000-12,000 sq. ft., potential use/lease restrictions, property was published in error as available on 2/11/00

GSA Number: 4-D-TN-594F

3 Facilities

Volunteer Army Ammunition Plant

Water Distribution Facilities

Chattanooga Co: Hamilton TN 37421-

Landholding Agency: GSA

Property Number: 54199930022

Status: Surplus

Comment: 256-15,204 sq. ft., 35.86 acres associated w/bldgs., most recent use—water distribution system, potential use/lease restrictions, property was published in error as available on 2/11/00

GSA Number: 4-D-TN-594F

Texas

Fairfield Federal Building

E. Main & Keechi St.

Fairfield Co: Freestone TX 75840-1556

Landholding Agency: GSA

Property Number: 54199920006

Status: Excess

Comment: 10,314 sq. ft., needs repair, most recent use—post office/Fed Bldg.

GSA Number: 7-G-TX-1051

Virginia

Army Reserve Center

1 West Church St.

Martinsville Co: Henry VA 24112-

Landholding Agency: GSA

Property Number: 54199930010

Status: Excess

Comment: 12,225 sq. ft., 3 stories, most recent use—office, 2,250 sq. ft., leased to Postal Service, property was published in error as available on 2/11/00

GSA Number: 4-D-VA-719

Washington

747 Building Complex

805 Goethals Drive

Richland Co: Benton WA 99352-

Landholding Agency: GSA

Property Number: 54199820005

Status: Surplus

Comment: 4 bldgs. (2 bldgs. utilized w/lease provisions), most recent use—labs/offices, presence of asbestos/lead paint

GSA Number: 9-B-WA-1145

Wisconsin

Former Lockmaster's Dwelling

DePere Lock

100 James Street

De Pere Co: Brown WI 54115-

Landholding Agency: COE

Property Number: 31199011526

Status: Unutilized

Comment: 1224 sq. ft.; 2 story brick/wood frame residence; needs rehab; secured area with alternate access.

Wausau Federal Building

317 First Street

Wausau Co: Marathon WI 54401-

Landholding Agency: GSA

Property Number: 54199820016

Status: Excess

Comment: 30,500 sq. ft., presence of asbestos, eligible for listing on the Natl Register of Historic Places, most recent use—office

GSA Number: 1-G-WI-593

Army Reserve Center

401 Fifth Street

Kewaunee Co: WI 54216-1838

Landholding Agency: GSA

Property Number: 54199940004

Status: Excess

Comment: 2 admin. bldgs. (15,593 sq. ft.), 1 garage (1325 sq. ft.), need repairs, property was published in error as available on ­2/11/00

GSA Number: 1-D-WI-597

Land (by State)

California

Mira Loma Parcel

March Comm. Annex No. 2

Mira Loma Co: Riverside CA

Landholding Agency: GSA

Property Number: 54199910007

Status: Excess

Comment: 0.81 acres, potential utilities

GSA Number: 9-G-CA-1505

Reclamation Unit LC-2, Par. B

Texas Ave/Old Lewiston Rd

Lewiston Co: Trinity CA

Landholding Agency: GSA

Property Number: 54199910008

Status: Excess

Comment: 28.3 acres with old barn in poor condition

GSA Number: 9-I-CA-1509

Redding Reserve Site

Redding Co: Shasta CA 96049-

Landholding Agency: GSA

Property Number: 54199920001

Status: Unutilized

Comment: 5.13 acres

GSA Number: 9-D-CA-1524

Illinois

Lake Shelbyville

Shelbyville Co: Shelby & Moultrie IL 62565-9804

Landholding Agency: COE

Property Number: 31199240004

Status: Unutilized

Comment: 5 parcels of land equalling 0.70 acres, improved w/4 small equipment storage bldgs. and a small access road, easement restrictions.

Kentucky

Portion of Tract 3300

Fishtrap Lake

Co: Pike KY 41548-

Landholding Agency: COE

Property Number: 31199830002

Status: Excess

Comment: 0.40 acre encroachment, steep hill

Louisiana

Sulphur Mines Well Site

Highway 90-W

Sulphur Co: Calcasieu Parish LA 70663-

Landholding Agency: GSA

Property Number: 54199930026

Status: Surplus

Comment: 68.02 acres w/4 capped brine injection wells, majority of land densely wooded, located on Gulf Coastal Plain, property was published in error as available on 2/11/00

GSA Number: 7-B-UT-431-M

Michigan

Parcel 3, Parcel B

East Tawas Co: Iosoco MI

Landholding Agency: GSA

Property Number: 54199730013

Status: Excess

Comment: 2.02 acres of land, wooded and primarily wetlands, restricted access

GSA Number: 1-U-MI-500

New York

Galeville Army Training Site

Shwangunk Co: Ulster NY 12589-

Landholding Agency: GSA

Property Number: 21199510128

Status: Excess

Comment: 55 acres of 622 acres are available, improved w/inactive runways, 234 acres is wetlands and habitat for threatened species

GSA Number: 2-D-NY-807

North Carolina

Greenville Relay Station

Site C

Greenville Co: Pitt NC

Landholding Agency: GSA

Property Number: 54199840013

Status: Excess

Comment: 589 acres w/27,830 sq. ft. concrete block bldg., (2 acre chemical waste storage site located on SE portion of property)

GSA Number: 4-GR-NC-0721-B

Pennsylvania

East Branch Clarion River Lake

Wilcox Co: Elk PA

Location: Free camping area on the right bank off entrance roadway.

Landholding Agency: COE

Property Number: 31199011012

Status: Underutilized

Comment: 1 acre; most recent use—free campground

Dashields Locks and Dam

(Glenwillard, PA)

Crescent Twp. Co: Allegheny PA 15046-0475

Landholding Agency: COE

Property Number: 31199210009

Status: Unutilized

Comment: 0.58 acres, most recent use—baseball field

Puerto Rico

La Hueca—Naval Station

Roosevelt Roads

Vieques PR 00765-

Landholding Agency: GSA

Property Number: 54199420006

Status: Excess

Comment: 323 acres, cultural site

Tennessee

1500 acres

Volunteer Army Ammunition Plant

Chattanooga Co: Hamilton TN 37421-

Landholding Agency: GSA

Property Number: 54199930015

Status: Surplus

Comment: scattered throughout facility, most recent use—buffer area, steep topography, potential use restrictions, property was published in error as available on 2/11/00

GSA Number: 4-D-TN-594F

Texas

Parcel #222

Lake Texoma

Co: Grayson TX

Location: C. Meyerheim survey A-829 J. Hamilton survey-529

Landholding Agency: COE

Property Number: 31199010421

Status: Excess

Comment: 52.80 acres; most recent use—recreation

West Virginia

Segment 8

Matewan Redevelopment Site

Matewan Co: Mingo WV

Landholding Agency: GSA

Property Number: 54199910006

Status: Excess

Comment: 3039 acres, subject to convenants/restrictions

GSA Number: 4-D-WV-533

Suitable/To Be Excessed

Land (by State)

Georgia

Lake Sidney Lanier

Co: Forsyth GA 30130-

Location: Located on Two Mile Creek adj. to State Route 369

Landholding Agency: COE

Property Number: 31199440010

Status: Unutilized

Comment: 0.25 acres, endangered plant species

Lake Sidney Lanier-3 parcels

Gainesville Co: Hall GA 30503-

Location: Between Gainesville H.S. and State Route 53 By-Pass

Landholding Agency: COE

Property Number: 31199440011

Status: Unutilized

Comment: 3 parcels totalling 5.17 acres, most recent use—buffer zone, endangered plant species

Indiana

Brookville Lake—Land

Liberty Co: Union IN 47353-

Landholding Agency: COE

Property Number: 31199440009

Status: Unutilized

Comment: 6.91 acres, limited utilities

Kansas

Parcel #1

Fall River Lake

Section 26

Co: Greenwood KS

Landholding Agency: COE

Property Number: 31199010065

Status: Unutilized

Comment: 126.69 acres; most recent use—recreation and leased cottage sites.

Parcel No. 2, El Dorado Lake

Approx. 1 mi east of the town of El Dorado

Co: Butler KS

Landholding Agency: COE

Property Number: 31199210005

Status: Unutilized

Comment: 11 acres, part of a relocated railroad bed, rural area

Massachusetts

Buffumville Dam

Flood Control Project

Gale Road

Carlton Co: Worcester MA 01540-0155

Location: Portion of tracts B-200, B-248, B-251, B-204, B-247, B-200 and B-256

Landholding Agency: COE

Property Number: 31199010016

Status: Excess

Comment: 1.45 acres

Minnesota

Tract #3

Lac Qui Parle Flood Control

Project

County Rd. 13

Watson Co: Lac Qui Parle MN 56295-

Landholding Agency: COE

Property Number: 31199340006

Status: Unutilized

Comment: approximately 2.9 acres, fallow land

Tract #34

Lac Qui Parle Flood Control

Project

Marsh Lake

Watson Co: Lac Qui Parle MN 56295-

Landholding Agency: COE

Property Number: 31199340007

Status: Unutilized

Comment: approx. 8 acres, fallow land

Tennessee

Tract D-456

Cheatham Lock and Dam

Ashland Co: Cheatham TN 37015-

Location: Right downstream bank of Sycamore Creek

Landholding Agency: COE

Property Number: 31199010942

Status: Excess

Comment: 8.93 acres; subject to existing easements

Texas

Corpus Christi Ship Channel

Corpus Christi Co: Neuces TX

Location: East side of Carbon Plant Road, approx. 14 miles NW of downtown Corpus Christi

Landholding Agency: COE

Property Number: 31199240001

Status: Unutilized

Comment: 4.4 acres, most recent use—farm land

Unsuitable Properties

Buildings (by State)

Alabama

Sand Island Light House

Gulf of Mexico

Mobile AL

Landholding Agency: GSA

Property Number: 54199610001

Status: Excess

Reason: Inaccessible

GSA Number: 4-U-AL-763

Mobile Point Light

Gulf Shores Co: Baldwin AL 36542-

Landholding Agency: GSA

Property Number: 54199940011

Status: Excess

Reason: Within 2000 ft. of flammable or explosive material

GSA Number: 4-U-AL-767

Alaska

0.04 acre/dock

Juneau Dock Natl Guard Site

Juneau Co: AK 99801-

Landholding Agency: GSA

Property Number: 54199910010

Status: Surplus

Reasons: Within 2000 ft. of flammable or explosive material, Extensive deterioration

GSA Number: 9-D-AK-538B

Arkansas

Dwelling

Bull Shoals Lake/Dry Run

Road

Oakland Co: Marion AR 72661-

Landholding Agency: COE

Property Number: 31199820001

Status: Unutilized

Reason: Extensive deterioration

California

Soil & Minerals Testing Lab

Sausalito Co: CA 00000-

Landholding Agency: COE

Property Number: 31199920002

Status: Excess

Reason: contamination

Bldg. 913

Sandia National Laboratories

Livermore Co: Alameda CA 94550-

Landholding Agency: Energy

Property Number: 41199830007

Status: Excess

Reason: Secured Area

Old SF Mint

88 5th Street

San Francisco Co: CA 94103-

Landholding Agency: GSA

Property Number: 54199910017

Status: Excess

Reason: Extensive deterioration

GSA Number: 9-G-CA-1531

Castle Area Shops

Sequoia National Park

Three Rivers CA 93271-

Landholding Agency: Interior

Property Number: 61199720004

Status: Unutilized

Reason: Extensive deterioration

Giant Forest Village

Sequoia National Park

Three Rivers CA 93271-

Landholding Agency: Interior

Property Number: 61199720006

Status: Unutilized

Reason: Extensive deterioration

Cabins 90-92, 100V-146

Sequoia National Park

Three Rivers CA 93271-

Landholding Agency: Interior

Property Number: 61199720008

Status: Unutilized

Reason: Extensive deterioration

Lower Kaweah 514-549, 594

Sequoia National Park

Three Rivers CA 93271-

Landholding Agency: Interior

Property Number: 61199720009

Status: Unutilized

Reason: Extensive deterioration

Lower Kaweah Cabins—various

Sequoia National Park

Three Rivers CA 93271-

Landholding Agency: Interior

Property Number: 61199720010

Status: Unutilized

Reason: Extensive deterioration

Bldg. 4190 & Outbuilding

Yosemite National Park

Wawona Co: Madera CA 95389-

Landholding Agency: Interior

Property Number: 61199910002

Status: Unutilized

Reason: Extensive deterioration

Parker Dam Govt Housing Camp

Township 2 North

San Bernardino Co: CA 92401-

Landholding Agency: Interior

Property Number: 61199930001

Status: Excess

Reason: Extensive deterioration

Bldg. 517

NPS Maint Yard

Yosemite Nat Park Co: Mariposa CA 95389-

Landholding Agency: Interior

Property Number: 61199940009

Status: Unutilized

Reason: Extensive deterioration

Colorado

Bldg. 34

Grand Junction Projects Office

Grand Junction Co: Mesa CO 81503-

Landholding Agency: Energy

Property Number: 41199540001

Status: Underutilized

Reasons: Contamination, Secured Area

Bldg. 35

Grand Junction Projects Office

Grand Junction Co: Mesa CO 81503-

Landholding Agency: Energy

Property Number: 41199540002

Status: Underutilized

Reasons: Contamination, Secured Area

Bldg. 36

Grand Junction Projects Office

Grand Junction Co: Mesa CO 81503-

Landholding Agency: Energy

Property Number: 41199540003

Status: Underutilized

Reasons: Contamination, Secured Area

Bldg. 2

Grand Junction Projects Office

Grand Junction Co: Mesa CO 81503-

Landholding Agency: Energy

Property Number: 41199610039

Status: Unutilized

Reasons: Contamination, Secured Area

Bldg. 7

Grand Junction Projects Office

Grand Junction Co: Mesa CO 81503-

Landholding Agency: Energy

Property Number: 41199610040

Status: Unutilized

Reasons: Contamination, Secured Area

Bldg. 35-A

Grand Junction Projects Office

Grand Junction Co: Mesa CO 81503-

Landholding Agency: Energy

Property Number: 41199610041

Status: Unutilized

Reasons: Contamination, Secured Area

Bldg. 33

Grand Junction Projects Office

Grand Junction Co: Mesa CO 81503-

Landholding Agency: Energy

Property Number: 41199610042

Status: Unutilized

Reasons: Contamination, Secured Area

Bldg. 727

Rocky Flats Environmental Tech Site

Golden Co: Jefferson CO 80020-

Landholding Agency: Energy

Property Number: 41199910001

Status: Unutilized

Reasons: Within 2000 ft. of flammable or explosive material, Secured Area

Bldg. 729

Rocky Flats Environmental Tech Site

Golden Co: Jefferson CO 80020-

Landholding Agency: Energy

Property Number: 41199910002

Status: Unutilized

Reasons: Within 2000 ft. of flammable or explosive material, Secured Area

Bldg. 779

Rocky Flats Environmental Tech site

Golden Co: Jefferson CO 80020-

Landholding Agency: Energy

Property Number: 41199910003

Status: Unutilized

Reasons: Within 2000 ft. of flammable or explosive material Secured Area

Bldg. 780

Rocky Flats Environmental Tech Site

Golden Co: Jefferson CO 80020-

Landholding Agency: Energy

Property Number: 41199910004

Status: Unutilized

Reasons: Within 2000 ft. of flammable or explosive material Secured Area

Bldg. 780A

Rocky Flats Environmental Tech Site

Golden Co: Jefferson CO 80020-

Landholding Agency: Energy

Property Number: 41199910005

Status: Unutilized

Reasons: Within 2000 ft. of flammable or explosive material Secured Area

Bldg. 780B

Rocky Flats Environmental Tech Site

Golden Co: Jefferson CO 80020-

Landholding Agency: Energy

Property Number: 41199910006

Status: Unutilized

Reasons: Within 2000 ft. of flammable or explosive material Secured Area

Bldg. 782

Rocky Flats Environmental Tech Site

Golden Co: Jefferson CO 80020-

Landholding Agency: Energy

Property Number: 41199910007

Status: Unutilized

Reasons: Within 2000 ft. of flammable or explosive material Secured Area

Bldg. 783

Rocky Flats Environmental Tech Site

Golden Co: Jefferson CO 80020-

Landholding Agency: Energy

Property Number: 41199910008

Status: Unutilized

Reasons: Within 2000 ft. of flammable or explosive material Secured Area

Bldg. 784(A-D)

Rocky Flats Environmental Tech Site

Golden Co: Jefferson CO 80020-

Landholding Agency: Energy

Property Number: 41199910009

Status: Unutilized

Reasons: Within 2000 ft. of flammable or explosive material Secured Area

Bldg. 785

Rocky Flats Environmental Tech Site

Golden Co: Jefferson CO 80020-

Landholding Agency: Energy

Property Number: 41199910010

Status: Unutilized

Reasons: Within 2000 ft. of flammable or explosive material Secured Area

Bldg. 786

Rocky Flats Environmental Tech Site

Golden Co: Jefferson CO 80020-

Landholding Agency: Energy

Property Number: 41199910011

Status: Unutilized

Reasons: Within 2000 ft. of flammable or explosive material Secured Area

Bldg. 787 (A-D)

Rocky Flats Environmental Tech Site

Golden Co: Jefferson CO 80020-

Landholding Agency: Energy

Property Number: 41199910012

Status: Unutilized

Reasons: Within 2000 ft. of flammable or explosive material Secured Area

Bldg. 875

Rocky Flats Environmental Tech Site

Golden Co: Jefferson CO 80020-

Landholding Agency: Energy

Property Number: 41199910013

Status: Unutilized

Reasons: Within 2000 ft. of flammable or explosive material Secured Area

Bldg. 880

Rocky Flats Environmental Tech Site

Golden Co: Jefferson CO 80020-

Landholding Agency: Energy

Property Number: 41199910014

Status: Unutilized

Reasons: Within 2000 ft. of flammable or explosive material Secured Area

Bldg. 886

Rocky Flats Environmental Tech Site

Golden Co: Jefferson CO 80020-

Landholding Agency: Energy

Property Number: 41199910015

Status: Unutilized

Reasons: Within 2000 ft. of flammable or explosive material, Secured Area

Bldg. 308A

Rocky Flats Env. Tech. Site

Golden Co: Jefferson CO 80020-

Landholding Agency: Energy

Property Number: 41199910016

Status: Unutilized

Reasons: Within 2000 ft. of flammable or explosive material, Secured Area

Bldg. 788

Rocky Flats Env. Tech. Site

Golden Co: Jefferson Co 80020-

Landholding Agency: Energy

Property Number: 41199910017

Status: Underutilized

Reasons: Within 2000 ft. of flammable or explosive material, Secured Area

Bldg. 888

Rocky Flats Environmental Tech Site

Golden Co: Jefferson CO 80020-

Landholding Agency: Energy

Property Number: 41199930001

Status: Unutilized

Reasons: Within 2000 ft. of flammable or explosive material, Secured Area

Bldg. 714 A/B

Rocky Flats Env. Tech Site

Golden Co: Jefferson CO 80020-

Landholding Agency: Energy

Property Number: 41199930021

Status: Underutilized

Reasons: Within 2000 ft. of flammable or explosive material, Secured Area

Bldg. 717

Rocky Flats Env. Tech Site

Golden Co: Jefferson CO 80020-

Landholding Agency: Energy

Property Number: 41199930022

Status: Underutilized

Reasons: Within 2000 ft. of flammable or explosive material, Secured Area

770

Rocky Flats Env. Tech Site

Golden Co: Jefferson CO 80020-

Landholding Agency: Energy

Property Number: 41199930023

Status: Underutilized

Reasons: Within 2000 ft. of flammable or explosive material, Secured Area

Bldg. 771

Rocky Flats Env. Tech Site

Golden Co: Jefferson CO 80020-

Landholding Agency: Energy

Property Number: 41199930024

Status: Underutilized

Reasons: Within 2000 ft. of flammable or explosive material, Secured Area

Bldg. 771B

Rocky Flats Env. Tech Site

Golden Co: Jefferson CO 80020-

Landholding Agency: Energy

Property Number: 41199930025

Status: Underutilized

Reasons: Within 2000 ft. of flammable or explosive material, Secured Area

Bldg. 771C

Rocky Flats Env. Tech Site

Golden Co: Jefferson CO 80020-

Landholding Agency: Energy

Property Number: 41199930026

Status: Underutilized

Reasons: Within 2000 ft. of flammable or explosive material, Secured Area

Bldg. 772-772A

Rocky Flats Env. Tech Site

Golden Co: Jefferson CO 80020-

Landholding Agency: Energy

Property Number: 41199930027

Status: Underutilized

Reasons: Within 2000 ft. of flammable or explosive material, Secured Area

Bldg. 773

Rocky Flats Env. Tech Site

Golden Co: Jefferson CO 80020-

Landholding Agency: Energy

Property Number: 41199930028

Status: Underutilized

Reasons: Within 2000 ft. of flammable or explosive material, Secured Area

Bldg. 774

Rocky Flats Env. Tech Site

Golden Co: Jefferson CO 80020-

Landholding Agency: Energy

Property Number: 41199930029

Status: Underutilized

Reasons: Within 2000 ft. of flammable or explosive material, Secured Area

Matteson Warehouse

Commerce City Co: Adams CO 80022-

Landholding Agency: GSA

Property Number: 54199940007

Status: Surplus

Reason: landlocked

GSA Number: 7-Z-CO-642

Connecticut

Hezekiah S. Ramsdell Farm

West Thompson Lake

North Grosvenordale Co: Windham CT 06255-9801

Landholding Agency: COE

Property Number: 31199740001

Status: Unutilized

Reasons: Floodway, Extensive deterioration

Bldgs. 25 and 26

Prospect Hill Road

Windsor Co: Hartford CT 06095-

Landholding Agency: Energy

Property Number: 41199440003

Status: Excess

Reason: Secured Area

9 Bldgs.

Knolls Atomic Power Lab, Windsor Site

Windsor Co: Hartford CT 06095-

Landholding Agency: Energy

Property Number: 41199540004

Status: Excess

Reason: Secured Area

Bldg. 8, Windsor Site

Knolls Atomic Power Lab

Windsor Co: Hartford CT 06095-

Landholding Agency: Energy

Property Number: 41199830006

Status: Unutilized

Reason: Extensive deterioration

Delaware

Mispillion River Light

Milford Co: Sussex DE 19963-

Landholding Agency: GSA

Property Number: 54199740001

Status: Excess

Reason: Extensive deterioration

GSA Number: 4-U-DE-461

Florida

Cape St. George Lighthouse

St. George Island Co: Franklin FL 32328-

Landholding Agency: GSA

Property Number: 54199940012

Status: Excess

Reasons: Floodway, Extensive deterioration

GSA Number: 4-U-FL-1167

Boca Grande Range

Rear Light

Gasparilla Island Co: Lee FL 33921-

Landholding Agency: GSA

Property Number: 54199940013

Status: Excess

Reason: Floodway

GSA Number: 4-U-FL-1169

Sanibel Island Light

Sanibel Co: Lee FL 33957-

Landholding Agency: GSA

Property Number: 54199940014

Status: Excess

Reason: Floodway

GSA Number: 4-U-FL-1162

Amelia Island Light

Fernandina Beach Co: Nassau FL 32034-

Landholding Agency: GSA

Property Number: 54199940016

Status: Excess

Reason: Secured Area

GSA Number: 4-U-FL-1171

Hawaii

Portion, Bellows AFS

DE #1, Parcel 5A

Waimanalo Co: Oahu HI 96795-

Landholding Agency: GSA

Property Number: 54199930025

Status: Surplus

Reason: Floodway

GSA Number: 9-D-HI-574

Idaho

Bldg. AFD0070

Albeni Falls Dam

Oldtown Co: Bonner ID 83822-

Landholding Agency: COE

Property Number: 31199910001

Status: Unutilized

Reason: Extensive deterioration

Bldg. PBF-621

Idaho National Engineering Laboratory

Scoville Co: Butte ID 83415-

Landholding Agency: Energy

Property Number: 41199610001

Status: Unutilized

Reason: Secured Area

Bldg. CPP-1609

Idaho National Engineering Laboratory

Scoville Co: Butte ID 83415-

Landholding Agency: Energy

Property Number: 41199610002

Status: Unutilized

Reason: Secured Area

Bldg. CPP-691

Idaho National Engineering Laboratory

Scoville Co: Butte ID 83415-

Landholding Agency: Energy

Property Number: 41199610003

Status: Unutilized

Reason: Secured Area

Bldg. CPP-625

Idaho National Engineering Laboratory

Scoville Co: Butte ID 83415-

Landholding Agency: Energy

Property Number: 41199610004

Status: Unutilized

Reason: Secured Area

Bldg. CPP-650

Idaho National Engineering Laboratory

Scoville Co: Butte ID 83415-

Landholding Agency: Energy

Property Number: 41199610005

Status: Unutilized

Reason: Secured Area

Bldg. CPP-608

Idaho National Engineering Laboratory

Scoville Co: Butte ID 83415-

Landholding Agency: Energy

Property Number: 41199610006

Status: Unutilized

Reason: Secured Area

Bldg. TAN-660

Idaho National Engineering Laboratory

Scoville Co: Butte ID 83415-

Landholding Agency: Energy

Property Number: 41199610007

Status: Unutilized

Reason: Secured Area

Bldg. TAN-636

Idaho National Engineering Laboratory

Scoville Co: Butte ID 83415-

Landholding Agency: Energy

Property Number: 41199610008

Status: Unutilized

Reason: Secured Area

Bldg. TAN-609

Idaho National Engineering Laboratory

Scoville Co: Butte ID 83415-

Landholding Agency: Energy

Property Number: 41199610009

Status: Unutilized

Reason: Secured Area

Bldg. TAN-670

Idaho National Engineering Laboratory

Scoville Co: Butte ID 83415-

Landholding Agency: Energy

Property Number: 41199610010

Status: Unutilized

Reason: Secured Area

Bldg. TAN-661

Idaho National Engineering Laboratory

Scoville Co: Butte ID 83415-

Landholding Agency: Energy

Property Number: 41199610011

Status: Unutilized

Reason: Secured Area

Bldg. TAN-657

Idaho National Engineering Laboratory

Scoville Co: Butte ID 83415-

Landholding Agency: Energy

Property Number: 41199610012

Status: Unutilized

Reason: Secured Area

Bldg. TRA-669

Idaho National Engineering Laboratory

Scoville Co: Butte ID 83415-

Landholding Agency: Energy

Property Number: 41199610013

Status: Unutilized

Reason: Secured Area

Bldg. TAN-637

Idaho National Engineering Laboratory

Scoville Co: Butte ID 83415-

Landholding Agency: Energy

Property Number: 41199610014

Status: Unutilized

Reason: Secured Area

Bldg. TAN-635

Idaho National Engineering Laboratory

Scoville Co: Butte ID 83415-

Landholding Agency: Energy

Property Number: 41199610015

Status: Unutilized

Reason: Secured Area

Bldg. TAN-638

Idaho National Engineering Laboratory

Scoville Co: Butte ID 83415-

Landholding Agency: Energy

Property Number: 41199610016

Status: Unutilized

Reason: Secured Area

Bldg. TAN-651

Idaho National Engineering Laboratory

Scoville Co: Butte ID 83415-

Landholding Agency: Energy

Property Number: 41199610017

Status: Unutilized

Reason: Secured Area

Bldg. TRA-673

Idaho National Engineering Laboratory

Scoville Co: Butte ID 83415-

Landholding Agency: Energy

Property Number: 41199610018

Status: Unutilized

Reason: Secured Area

Bldg. PBF-620

Idaho National Engineering Laboratory

Scoville Co: Butte ID 83415-

Landholding Agency: Energy

Property Number: 41199610019

Status: Unutilized

Reason: Secured Area

Bldg. PBF-616

Idaho National Engineering Laboratory

Scoville Co: Butte ID 83415-

Landholding Agency: Energy

Property Number: 41199610020

Status: Unutilized

Reason: Secured Area

Bldg. PBF-617

Idaho National Engineering Laboratory

Scoville Co: Butte ID 83415-

Landholding Agency: Energy

Property Number: 41199610021

Status: Unutilized

Reason: Secured Area

Bldg. PBF-619

Idaho National Engineering Laboratory

Scoville Co: Butte ID 83415-

Landholding Agency: Energy

Property Number: 41199610022

Status: Unutilized

Reason: Secured Area

Bldg. PBF-624

Idaho National Engineering Laboratory

Scoville Co: Butte ID 83415-

Landholding Agency: Energy

Property Number: 41199610023

Status: Unutilized

Reason: Secured Area

Bldg. PBF-625

Idaho National Engineering Laboratory

Scoville Co: Butte ID 83415-

Landholding Agency: Energy

Property Number: 41199610024

Status: Unutilized

Reason: Secured Area

Bldg. PBF-629

Idaho National Engineering Laboratory

Scoville Co: Butte ID 83415-

Landholding Agency: Energy

Property Number: 41199610025

Status: Unutilized

Reason: Secured Area

Bldg. PBF-604

Idaho National Engineering Laboratory

Scoville Co: Butte ID 83415-

Landholding Agency: Energy

Property Number: 41199610026

Status: Unutilized

Reason: Secured Area

Bldg. TRA-641

Idaho National Engineering Laboratory

Scoville Co: Butte ID 83415-

Landholding Agency: Energy

Property Number: 41199610034

Status: Unutilized

Reason: Secured Area

Bldg. CF-606

Idaho National Engineering Laboratory

Scoville Co: Butte ID 83415-

Landholding Agency: Energy

Property Number: 41199610037

Status: Unutilized

Reason: Secured Area

CF657/CF716

Idaho National Engineering Lab

Scoville Co: Butte ID 83415-

Landholding Agency: Energy

Property Number: 41199710005

Status: Excess

Reason: Secured Area

TAN620/TAN656

Idaho National Engineering Lab

Scoville Co: Butte ID 83415-

Landholding Agency: Energy

Property Number: 41199710009

Status: Excess

Reasons: Secured Area, Extensive deterioration

TAN 602, 631, 663, 702, 724

Idaho Natl Engineering & Environmental Lab

Test Area North

Scoville Co: Butte ID 83415-

Landholding Agency: Energy

Property Number: 41199830002

Status: Excess

Reasons: Within 2000 ft. of flammable or explosive material, Secured Area, Extensive deterioration

8 Bldgs.

Idaho Natl Engineering & Environmental Lab

Test Reactor North

Scoville Co: Butte ID 83415-

Location: TRA 643, 644, 655, 660, 704-706, 755

Landholding Agency: Energy

Property Number: 41199830003

Status: Excess

Reasons: Within 2000 ft. of flammable or explosive material, Secured Area

B16-703, B16-704

Idaho Natl Eng & Env Lab

Scoville Co: Butte ID 83415-

Landholding Agency: Energy

Property Number: 41200010021

Status: Excess

Reason: Extensive deterioration

Bldg. Minidoka Project

Rupert Co: ID 83350-

Landholding Agency: Interior

Property Number: 61199910001

Unutilized

Reason: Extensive deterioration

Illinois

Navy Family Housing

18-units

Hanna City Co: Peoria IL 61536-

Landholding Agency: GSA

Property Number: 54199940018

Status: Excess

Reason: Within 2000 ft. of flammable or explosive material

GSA Number: 1-N-IL-723

Indiana

Brookville Lake—Bldg.

Brownsville Rd. in Union

Liberty Co: Union IN 47353-

Landholding Agency: COE

Property Number: 31199440004

Status: Excess

Reason: Extensive deterioration

Bldg.

Patoka Lake Project

4512 N. Cuzco Road S

DuBois Co: IN 47527-9661

Landholding Agency: COE

Property Number: 31200010001

Status: Unutilized

Reason: Extensive deterioration

Iowa

House, Tract 100

Camp Dodge

Johnston Co: Polk IA 50131-

Landholding Agency: COE

Property Number: 31199530002

Status: Excess

Reason: Extensive deterioration

Play House, Tract 100

Camp Dodge

Johnston Co: Polk IA 50131-

Lanholding Agency: COE

Property Number: 31199530003

Status: Excess

Reason: Extensive deterioration

House, Tract 122

Camp Dodge

Johnston Co: Polk IA 50131-

Landholding Agency: COE

Property Number: 31199530004

Status: Excess

Reason: Extensive deterioration

Shed, Tract 122

Camp Dodge

Johnston Co: Polk IA 50131-

Landholding Agency: COE

Property Number: 31199530005

Status: Excess

Reason: Extensive deterioration

Garage, Tract 122

Camp Dodge

Johnston Co: Polk IA 50131-

Landholding Agency: COE

Property Number: 31199530006

Status: Excess

Reason: Extensive deterioration

Machine Shed, Tract 122

Camp Dodge

Johnston Co: Polk IA 50131-

Landholding Agency: COE

Property Number: 31199530007

Status: Excess

Reason: Extensive deterioration

Barn, Tract 122

Camp Dodge

Johnston Co: Polk IA 50131-

Landholding Agency: COE

Property Number: 31199530008

Status: Excess

Reason: Extensive deterioration

2-Car Garage, Tract 122

Camp Dodge

Johnston Co: Polk IA 50131-

Landholding Agency: COE

Property Number: 31199530009

Status: Excess

Reason: Extensive deterioration

Barn, Tract 128

Camp Dodge

Johnston Co: Polk IA 50131-

Landholding Agency: COE

Property Number: 31199530010

Status: Excess

Reason: Extensive deterioration

Shed, Tract 128

Camp Dodge

Johnston Co: Polk IA 50131-

Landholding Agency: COE

Property Number: 31199530011

Status: Excess

Reason: Extensive deterioration

House, Tract 129

Camp Dodge

Johnston Co: Polk IA 50131-

Landholding Agency: COE

Property Number: 31199530012

Status: Excess

Reason: Extensive deterioration

Play House, Tract 129

Camp Dodge

Johnston Co: Polk IA 50131-

Landholding Agency: COE

Property Number: 31199530013

Status: Excess

Reason: Extensive deterioration

Kennel, Tract 129

Camp Dodge

Johnston Co: Polk IA 50131-

Landholding Agency: COE

Property Number: 31199530014

Status: Excess

Reason: Extensive deterioration

Corn Crib, Tract 129

Camp Dodge

Johnston Co: Polk IA 50131-

Landholding Agency: COE

Property Number: 31199530015

Status: Excess

Reason: Extensive deterioration

Barn W, Tract 129

Camp Dodge

Johnston Co: Polk IA 50131-

Landholding Agency: COE

Property Number: 31199530016

Status: Excess

Reason: Extensive deterioration

Barn E, Tract 129

Camp Dodge

Johnston Co: Polk IA 50131-

Landholding Agency: COE

Property Number: 31199530017

Status: Excess

Reason: Extensive deterioration

Shed, Tract 129

Camp Dodge

Johnston Co: Polk IA 50131-

Landholding Agency: COE

Property Number: 31199530018

Status: Excess

Reason: Extensive deterioration

House, Tract 130

Camp Dodge

Johnston Co: Polk IA 50131-

Landholding Agency: COE

Property Number: 31199530019

Status: Excess

Reason: Extensive deterioration

Out House, Tract 130

Camp Dodge

Johnston Co: Polk IA 50131-

Landholding Agency: COE

Property Number: 31199530020

Status: Excess

Reason: Extensive deterioration

Chicken House, Tract 130

Camp Dodge

Johnston Co: Polk IA 50131-

Landholding Agency: COE

Property Number: 31199530021

Status: Excess

Reason: Extensive deterioration

Shed, Tract 130

Camp Dodge

Johnston Co: Polk IA 50131-

Landholding Agency: COE

Property Number: 31199530022

Status: Excess

Reason: Extensive deterioration

Barn, Tract 135

Camp Dodge

Johnston Co: Polk IA 50131-

Landholding Agency: COE

Property Number: 31199530023

Status: Excess

Reason: Extensive deterioration

Smokehouse, Tract 135

Camp Dodge

Johnston Co: Polk IA 50131-

Landholding Agency: COE

Property Number: 31199530024

Status: Excess

Reason: Extensive deterioration

Shed, Tract 137

Camp Dodge

Johnston Co: Polk IA 50131-

Landholding Agency: COE

Property Number: 31199530025

Status: Excess

Reason: Extensive deterioration

Shed—White, Tract 137

Camp Dodge

Johnston Co: Polk IA 50131-

Landholding Agency: COE

Property Number: 31199530026

Status: Excess

Reason: Extensive deterioration

Leanto, Tract 137

Camp Dodge

Johnston Co: Polk IA 50131-

Landholding Agency: COE

Property Number: 31199530027

Status: Excess

Reason: Extensive deterioration

Tract 116, Camp Dodge

Johnston Co: Polk IA 50131-

Landholding Agency: COE

Property Number: 31199630006

Status: Unutilized

Reason: Extensive deterioration

Kansas

Sunflower AAP

DeSoto Co: Johnson KS 66018-

Landholding Agency: GSA

Property Number: 54199830010

Status: Excess

Reason: Extensive deterioration

GSA Number: 7-D-KS-0581

Kentucky

Spring House

Kentucky River Lock and Dam No. 1

Highway 320

Carrollton Co: Carroll KY 41008-

Landholding Agency: COE

Property Number: 21199040416

Status: Unutilized

Reason: Spring House

Building

Kentucky River Lock and Dam No. 4

1021 Kentucky Avenue

Frankfort Co: Franklin KY 40601-9999

Landholding Agency: COE

Property Number: 21199040417

Status: Unutilized

Reason: Coal Storage

Building

Kentucky River Lock and Dam No. 4

1021 Kentucky Avenue

Frankfort Co: Franklin KY 40601-9999

Landholding Agency: COE

Property Number: 21199040418

Status: Unutilized

Reason: Coal Storage

Building

Kentucky River Lock and Dam No. 4

1021 Kentucky Avenue

Frankfort Co: Franklin KY 40601-9999

Landholding Agency: COE

Property Number: 21199040418

Status: Unutilized

Reason: Coal Storage

Barn

Kentucky River Lock and Dam No. 3

Highway 561

Pleasureville Co: Henry KY 40057-

Landholding Agency: COE

Property Number: 21199040419

Status: Underutilized

Reason: Extensive deteriation

Latrine

Kentucky River Lock and Dam Number 3

Highway 561

Pleasureville Co: Henry KY 40057-

Landholding Agency: COE

Property Number: 31199040009

Status: Unutilized

Reason: Detached Latrine

6-Room Dwelling

Green River Lock and Dam No. 3

Rochester Co: Butler KY 42273-

Location: Off State Hwy 369, which runs off of Western Ky. Parkway

Landholding Agency: COE

Property Number: 31199120010

Status: Unutilized

Reason: Floodway

2-Car Garage

Green River Lock and Dam No. 3

Rochester Co: Butler KY 42273-

Location: Off State Hwy 369, which runs off of Western Ky. Parkway

Landholding Agency: COE

Property Number: 31199120011

Status: Unutilized

Reason: Floodway

Office and Warehouse

Green River Lock and Dam No. 3

Rochester Co: Butler KY 42273-

Location: Off State Hwy 369, which runs off of Western Ky. Parkway

Landholding Agency: COE

Property Number: 31199120012

Status: Unutilized

Reason: Floodway

2 Pit Toilets

Green River Lock and Dam No. 3

Rochester Co: Butler KY 42273-

Landholding Agency: COE

Property Number: 31199120013

Status: Unutilized

Reason: Floodway

Ranger Station

Big South Fork Natl River & Rec Area

Stearnes Co: McCreary KY 42647-

Landholding Agency: Interior

Property Number: 61199910008

Status: Excess

Reason: Extensive deterioration

Qtrs. 36

Mammoth Cave National Park

Mammoth Cave Co: Barren KY 42259-

Landholding Agency: Interior

Property Number: 61199920001

Status: Unutilized

Reason: Extensive deterioration

9 Bldgs.

Wondering Woods

Mammoth Cave National Park

Mammoth Cave Co: Barren KY 42259-

Landholding Agency: Interior

Property Number: 61199920002

Status: Excess

Reason: Extensive deterioration

Louisiana

Weeks Island Facility

New Iberia Co: Iberia Parish LA 70560-

Landholding Agency: Energy

Property Number: 41199610038

Status: Underutilized

Reason: Secured Area

Massachusetts

Frederick Murphy Federal Ctr

424 Trapelo Road

Waltham Co: MA 00000-

Landholding Agency: GSA

Property Number: 54199920005

Status: Surplus

Reason: Extensive deterioration

GSA Number: 1-G-MA-0848

Michigan

15 Offshore Lighthouses

Great Lakes MI

Landholding Agency: GSA

Property Number: 54199630014

Status: Excess

Reason: Extensive deterioration

Parcel 14, Boat House

East Tawas Co: Iosco MI

Landholding Agency: GSA

Property Number: 54199730014

Status: Excess

Reason: Extensive deterioration

GSA Number: 1-U-MI-500

Round Island Passage Light

Lake Huron

Lake Huron Co: Mackinac MI

Landholding Agency: GSA

Property Number: 54199730019

Status: Excess

Reason: Inaccessible

GSA Number: 1-U-MI-444B

Tract 100-1

Calumet Air Force Station

Calumet Co: Keweenaw MI 49913-

Landholding Agency: GSA

Property Number: 54199840003

Status: Excess

Reason: No legal access

GSA Number: 1-D-MI-659A

Tracts 100-2, 100-3

Calumet Air Force Station

Calumet Co: Keweenaw MI 49913-

Landholding Agency: GSA

Property Number: 54199840004

Status: Excess

Reason: No legal access

GSA Number: 1-D-MI-659A

Minnesota

Bldg.

Upper St. Anthony Falls

Minneapolis Co: Hennepin MN 55440-

Landholding Agency: COE

Property Number: 31199930001

Status: Unutilized

Reason: Extensive deterioration

Matthew Marvin USARC

Winona Co: MN 55987-

Landholding Agency: GSA

Property Number: 54199930002

Status: Excess

Reason: Within 2000 ft. of flammable or explosive material

GSA Number: 1-D-MN-576

Naval Ind. Rsv Ordnance Plant

Minneapolis Co: MN 55421-1498

Landholding Agency: GSA

Property Number: 54199930004

Status: Excess

Reason: Within 2000 ft. of flammable or explosive material

GSA Number: 1-N-MN-570

Missouri

Tract 2222

Stockton Project

Aldrich Co: Polk MO 65601-

Landholding Agency: COE

Property Number: 31199510001

Status: Excess

Reason: Extensive deterioration

Barn, Longview Lake

Kansas City Co: Jackson MO 64134-

Landholding Agency: COE

Property Number: 31199620001

Status: Excess

Reason: Extensive deterioration

Bldg. 81

Kansas City Plant

Bannister Road

Kansas City Co: MO 00000-

Landholding Agency: Energy

Property Number: 41199930030

Status: Excess

Reason: Within 2000 ft. of flammable or explosive material

South Coast Guard Base

Iron Street

St. Louis MO 63111-2536

Landholding Agency: GSA

Property Number: 54199740010

Status: Surplus

Reason: Within 2000 ft. of flammable or explosive material, Floodway, Extensive deterioration

GSA Number: 7-U-MO-0576-B

Montana

Barn/Garage

316 N. 26th Street

Billings Co: Yellowstone MT

Landholding Agency: Interior

Property Number: 61199520022

Status: Excess

Reason: Extensive deterioration

Nevada

Former Weather Service Office

Winnemucca Airport

Winnemucca Co: Humbolt NV 89445-

Landholding Agency: GSA

Property Number: 54199810001

Status: Excess

Reason: Within airport runway clear zone

GSA Number: 9-C-NV-509

New Jersey

Units C33 and C34

Princeton Plasma Physics Lab

Princeton Co: Mercer NJ 08540-

Landholding Agency: Energy

Property Number: 41199930020

Status: Excess

Reason: Extensive deterioration

Telephone Repeater Site

U.S. Coast Guard

Monmouth Beach Co: Monmouth Beach NJ 07750-

Landholding Agency: GSA

Property Number: 54199910001

Status: Excess

Reason: Extensive deterioraton

GSA Number: 1-U-NJ-628

New Jersey

Old Bridge Housing

Route 9

Old Bridge Co: NJ 08857-

Landholding Agency: GSA

Property Number: 54199940010

Status: Excess

Reason: Extensive deterioration

GSA Number: 0-0-NJ-000

New Mexico

Bldgs. 9252, 9268

Kirtland Air Force Base

Albuquerque Co: Bernalillo NM 87185-

Landholding Agency: Energy

Property Number: 41199430002

Status: Unutilized

Reason: Extensive deterioration

Tech Area II

Kirtland Air Force Base

Albuquerque Co: Bernalillo NM 87105-

Landholding Agency: Energy

Property Number: 41199630004

Status: Unutilized

Reasons: Within 2000 ft. of flammable or explosive material, Secured Area, Extensive deterioration

Bldg. 1, TA-33

Los Alamos National Laboratory

Los Alamos NM 87545-

Landholding Agency: Energy

Property Number: 41199810001

Status: Unutilized

Reasons: Secured Area, Extensive deterioration

Bldg. 2, TA-33

Los Alamos National Laboratory

Los Alamos NM 87545-

Landholding Agency: Energy

Property Number: 41199810002

Status: Unutilized

Reasons: Secured Area, Extensive deterioration

Bldg. 24, TA-33

Los Alamos National Laboratory

Los Alamos, NM 87545-

Landholding Agency: Energy

Property Number: 41199810003

Status: Unutilized

Reasons: Secured Area, Extensive deterioration

Bldg. 26, TA-33

Los Alamos National Laboratory

Los Alamos NM 87545-

Landholding Agency: Energy

Property Number: 41199810004

Status: Unutilized

Reasons: Secured Area, Extensive deterioration

Bldg. 86, TA-33

Los Alamos National Laboratory

Los Alamos NM 87545-

Landholding Agency: Energy

Property Number: 41199810005

Status: Unutilized

Reasons: Secured Area, Extensive deterioration

Bldg. 88, TA-33

Los Alamos National Laboratory

Los Alamos NM 87545-

Landholding Agency: Energy

Property Number: 41199810006

Status: Unutilized

Reasons: Secured Area, Extensive deterioration

Bldg. 89, TA-33

Los Alamos National Laboratory

Los Alamos NM 87545-

Landholding Agency: Energy

Property Number: 41199810007

Status: Unutilized

Reasons: Secured Area, Extensive deterioration

Bldg. 2, TA-21

Los Alamos National Laboratory

Los Alamos NM 87545-

Landholding Agency: Energy

Property Number: 41199810008

Status: Underutilized

Reason: Secured Area

Bldg. 5, TA-21

Los Alamos National Laboratory

Los Alamos NM 87545-

Landholding Agency: Energy

Property Number: 41199810011

Status: Unutilized

Reason: Secured Area

Bldg. 21, TA-21

Los Alamos National Laboratory

Los Alamos NM 87545-

Landholding Agency: Energy

Property Number: 41199810012

Status: Unutilized

Reason: Secured Area

Bldg. 116, TA-21

Los Alamos National Laboratory

Los Alamos NM 87545-

Landholding Agency: Energy

Property Number: 41199810013

Status: Unutilized

Reason: Secured Area

Bldg. 212, TA-21

Los Alamos National Laboratory

Los Alamos NM 87545-

Landholding Agency: Energy

Property Number: 41199810014

Status: Unutilized

Reason: Secured Area

Bldg. 228, TA-21

Los Alamos National Laboratory

Los Alamos NM 87545-

Landholding Agency: Energy

Property Number: 41199810015

Status: Unutilized

Reason: Secured Area

Bldg. 286, TA-21

Los Alamos National Laboratory

Los Alamos NM 87545-

Landholding Agency: Energy

Property Number: 41199810016

Status: Unutilized

Reason: Secured Area

Bldg. 63, TA-16

Los Alamos National Laboratory

Los Alamos NM 87545-

Landholding Agency: Energy

Property Number: 41199810019

Status: Unutilized

Reasons: Within 2000 ft. of flammable or explosive material, Extensive deterioration

Bldg. 515 TA-16

Los Alamos National Laboratory

Los Alamos NM 87545-

Landholding Agency: Energy

Property Number: 41199810020

Status: Unutilized

Reasons: Within 2000 ft. of flammable or explosive material, Secured Area, Extensive deterioration

Bldg. 516, TA-16

Los Alamos National Laboratory

Los Alamos NM 87545-

Landholding Agency: Energy

Property Number: 41199810021

Status: Unutilized

Reasons: Within 2000 ft. of flammable or explosive material, Secured Area, Extensive deterioration

Bldg. 517, TA-16

Los Alamos National Laboratory

Los Alamos NM 87545-

Landholding Agency: Energy

Property Number: 41199810022

Status: Unutilized

Reasons: Within 2000 ft. of flammable or explosive material, Secured Area, Extensive deterioration

Bldg. 518, TA-16

Los Alamos National Laboratory

Los Alamos NM 87545-

Landholding Agency: Energy

Property Number: 41199810023

Status: Unutilized

Reasons: Within 2000 ft. of flammble or explosive material, Secured Area, Extensive deterioration

Bldg. 519, TA-16

Los Alamos National Laboratory

Los Alamos NM 87545-

Landholding Agency: Energy

Property Number: 41199810024

Status: Unutilized

Reasons: Within 2000 ft. of flammable or explosive material, Secured Area, Extensive deterioration

Bldg. 520, TA-16

Los Alamos National Laboratory

Los Alamos NM 87545-

Landholding Agency: Energy

Property Number: 41199810025

Status: Unutilized

Reasons: Within 2000 ft. of flammable or explosive material, Secured Area, Extensive deterioration

Bldg. 18, TA-16

Los Alamos National Lab

Los Alamos Co: NM 87545-

Landholding Agency: Energy

Property Number: 41199840001

Status: Unutilized

Reasons: Secured Area, Extensive deterioration

Bldg. 31

Los Alamos National Lab

Los Alamos Co: NM 87545-

Landholding Agency: Energy

Property Number: 41199930003

Status: Unutilized

Reasons: Secured Area, Extensive deterioration

Bldg. 4, TA-2

Los Alamos National Lab

Los Alamos Co: NM 87545-

Landholding Agency: Energy

Property Number: 41199930004

Status: Unutilized

Reason: Secured Area

Bldg. 50, TA-2

Los Alamos National Lab

Los Alamos Co: NM 87545-

Landholding Agency: Energy

Property Number: 41199930005

Status: Unutilized

Reason: Secured Area

Bldg. 88, TA-2

Los Alamos National Lab

Los Alamos Co: NM 87545-

Landholding Agency: Energy

Property Number: 41199930006

Status: Unutilized

Reason: Secured Area

Bldg. 89, TA-2

Los Alamos National Lab

Los Alamos Co: NM 87545-

Landholding Agency: Energy

Property Number: 41199930007

Status: Unutilized

Reason: Secured Area

Bldg. 21, TA-2

Los Alamos National Lab

Los Alamos Co: NM 87545-

Landholding Agency: Energy

Property Number: 41199940001

Status: Unutilized

Reason: Secured Area

Bldg. 57, TA-2

Los Alamos National Lab

Los Alamos Co: NM 87545-

Landholding Agency: Energy

Property Number: 41199940002

Status: Unutilized

Reason: Secured Area

Bldg. 28, TA-8

Los Alamos National Lab

Los Alamos Co: NM 87545-

Landholding Agency: Energy

Property Number: 41199940003

Status: Unutilized

Reason: Secured Area

Bldg. 38, TA-14

Los Alamos National Lab

Los Alamos Co: NM 87545-

Landholding Agency: Energy

Property Number: 41199940004

Status: Unutilized

Reasons: Secured Area, Extensive deterioration

Bldg. 8, TA-15

Los Alamos National Lab

Los Alamos Co: NM 87545-

Landholding Agency: Energy

Property Number: 41199940005

Status: Unutilized

Reasons: Secured Area, Extensive deterioration

Bldg. 9, TA-15

Los Alamos National Lab

Los Alamos Co: NM 87545-

Landholding Agency: Energy

Property Number: 41199940006

Status: Unutilized

Reason: Secured Area

Bldg. 22, TA-15

Los Alamos National Lab

Los Alamos Co: NM 87545-

Landholding Agency: Energy

Property Number: 41199940007

Status: Unutilized

Reason: Secured Area

Bldg. 141, TA-15

Los Alamos National Lab

Los Alamos Co: NM 87545-

Landholding Agency: Energy

Property Number: 41199940008

Status: Unutilized

Reason: Secured Area

Bldg. 44, TA-15

Los Alamos National Lab

Los Alamos Co: NM 87545-

Landholding Agency: Energy

Property Number: 41199940009

Status: Unutilized

Reason: Secured Area

Bldg. 2, TA-18

Los Alamos National Lab

Los Alamos Co: NM 87545-

Landholding Agency: Energy

Property Number: 41199940010

Status: Unutilized

Reason: Secured Area, Extensive deterioration

Bldg. 5, TA-18

Los Alamos National Lab

Los Alamos Co: NM 87545-

Landholding Agency: Energy

Property Number: 41199940011

Status: Unutilized

Reason: Secured Area, Extensive deterioration

Bldg. 186, TA-18

Los Alamos National Lab

Los Alamos Co: NM 87545-

Landholding Agency: Energy

Property Number: 41199940012

Status: Unutilized

Reason: Secured Area, Extensive deterioration

Bldg. 188, TA-18

Los Alamos National Lab

Los Alamos Co: NM 87545-

Landholding Agency: Energy

Property Number: 41199940013

Status: Unutilized

Reason: Secured Area, Extensive deterioration

Bldg. 254, TA-21

Los Alamos National Lab

Los Alamos Co: NM 87545-

Landholding Agency: Energy

Property Number: 41199940014

Status: Unutilized

Reason: Secured Area, Extensive deterioration

Bldg. 44, TA-36

Los Alamos National Lab

Los Alamos Co: NM 87545-

Landholding Agency: Energy

Property Number: 41199940015

Status: Unutilized

Reason: Secured Area, Extensive deterioration

Bldg. 45, TA-36

Los Alamos National Lab

Los Alamos Co: NM 87545-

Landholding Agency: Energy

Property Number: 41199940016

Status: Unutilized

Reason: Secured Area, Extensive deterioration

Bldg. 19, TA-40

Los Alamos National Lab

Los Alamos Co: NM 87545-

Landholding Agency: Energy

Property Number: 41199940017

Status: Unutilized

Reason: Secured Area, Extensive deterioration

Bldg. 43, TA-40

Los Alamos National Lab

Los Alamos Co: NM 87545-

Landholding Agency: Energy

Property Number: 41199940018

Status: Unutilized

Reason: Secured Area, Extensive deterioration

Bldg. 258, TA-46

Los Alamos National Lab

Los Alamos Co: NM 87545-

Landholding Agency: Energy

Property Number: 41199940019

Status: Unutilized

Reasons: Secured Area, Extensive deterioration

Bldg. 897X

Tech Area I, Kirtland AFB

Albuquerque Co: Bernalillo NM 87185-

Landholding Agency: Energy

Property Number: 41199940021

Status: Unutilized

Reasons: Secured Area, Extensive deterioration

TA-2, Bldg. 1

Los Alamos National Lab

Los Alamos Co: NM 87545-

Landholding Agency: Energy

Property Number: 41200010008

Status: Unutilized

Reasons: Secured Area

TA-2, Bldg. 44

Los Alamos National Lab

Los Alamos Co: NM 87545-

Landholding Agency: Energy

Property Number: 41200010009

Status: Unutilized

Reasons: Secured Area, Extensive deterioration

TA-3, Bldg. 208

Los Alamos National Lab

Los Alamos Co: NM 87545-

Landholding Agency: Energy

Property Number: 41200010010

Status: Unutilized

Reasons: Secured Area, Extensive deterioration

TA-6, Bldg. 1

Los Alamos National Lab

Los Alamos Co: NM 87545-

Landholding Agency: Energy

Property Number: 41200010011

Status: Unutilized

Reasons: Secured Area, Extensive deterioration

TA-6, Bldg. 2

Los Alamos National Lab

Los Alamos Co: NM 87545-

Landholding Agency: Energy

Property Number: 41200010012

Status: Unutilized

Reasons: Secured Area, Extensive deterioration

TA-6, Bldg. 3

Los Alamos National Lab

Los Alamos Co: NM 87545-

Landholding Agency: Energy

Property Number: 41200010013

Status: Unutilized

Reasons: Secured Area, Extensive deterioration

TA-6, Bldg. 5

Los Alamos National Lab

Los Alamos Co: NM 87545-

Landholding Agency: Energy

Property Number: 41200010014

Status: Unutilized

Reasons: Secured Area, Extensive deterioration

TA-6, Bldg. 6

Los Alamos National Lab

Los Alamos Co: NM 87545-

Landholding Agency: Energy

Property Number: 41200010015

Status: Unutilized

Reasons: Secured Area

TA-6, Bldg. 7

Los Alamos National Lab

Los Alamos Co: NM 87545-

Landholding Agency: Energy

Property Number: 41200010016

Status: Unutilized

Reasons: Secured Area

TA-6, Bldg. 8

Los Alamos National Lab

Los Alamos Co: NM 87545-

Landholding Agency: Energy

Property Number: 41200010017

Status: Unutilized

Reasons: Secured Area, Extensive deterioration

TA-6, Bldg. 9

Los Alamos National Lab

Los Alamos Co: NM 87545-

Landholding Agency: Energy

Property Number: 41200010018

Status: Unutilized

Reason: Secured Area

TA-14, Bldg. 5

Los Alamos National Lab

Los Alamos Co: NM 87545-

Landholding Agency: Energy

Property Number: 41200010019

Status: Unutilized

Reason: Secured Area

TA-21 Bldg. 150

Los Alamos National Lab

Los Alamos Co: NM 87545-

Landholding Agency: Energy

Property Number: 41200010020

Status: Unutilized

Reason: Secured Area

New York

Bldg. P-1

Glen Falls Reserve Center

Glen Falls Co: Warren NY 12801-

Location: 67-73 Warren Street

Landholding Agency: GSA

Property Number: 21199540015

Status: Excess

Reason: Extensive deterioration

GSA Number: 1-D-NY-865

Warehouse

Whitney Lake Project

Whitney Point Co: Broome NY 13862-0706

Landholding Agency: COE

Property Number: 31199630007

Status: Unutilized

Reason: Extensive deterioration

Bldg. 577

Brookhaven National Lab

Upton Co: Suffolk NY 11973-

Landholding Agency: Energy

Property Number: 41199940022

Status: Excess

Reason: Extensive deterioration

Bldg. AT-1

Knolls Atomic Power Lab

Niskayuna Co: Schenectady NY 12301-

Landholding Agency: Energy

Property Number: 41200010022

Status: Excess

Reason: Secured Area

2 Offshore Lighthouses

Great Lakes NY

Landholding Agency: GSA

Property Number: 54199630015

Status: Excess

Reason: Extensive deterioration

Galloo Island Light

Lake Ontario

Hounsfield Co: Jefferson NY

Landholding Agency: GSA

Property Number: 54199740016

Status: Excess

Reason: inaccessible

GSA Number: 1-U-NY-735C

Peconic “H” Facility

Brookhaven Co: Suffolk NY 00000-

Landholding Agency: GSA

Property Number: 54199920002

Status: Excess

Reason: no public access

GSA Number: 1-U-NY-641B

Point AuRoche Light

Beekmantown Co: Clinton NY 12901-

Landholding Agency: GSA

Property Number: 87199420002

Status: Excess

Reason: Floodway, Extensive deterioration

GSA Number: 2-4-NY-817

Ohio

Lab

Ohio River Division

Laboratories

Mariemont Co: Hamilton OH 15227-4217

Landholding Agency: COE

Property Number: 31199510002

Status: Unutilized

Reason: Secured Area

Storage Facility

Ohio River Division Laboratories

Mariemont Co: Hamilton HO 15227-4217

Landholding Agency: COE

Property Number: 31199510003

Status: Unutilized

Reason: Secured Area

Office Building

Ohio River Division Laboratories

Mariemont Co: Hamilton OH 15227-4217

Landholding Agency: COE

Property Number: 31199510004

Status: Unutilized

Reason: Secured Area

s

Bldg. 77

Fernald Environmental Management Project

Fernald Co: Hamilton HO 45013-

Landholding Agency: Energy

Property Number: 41199840003

Status: Excess

Reasons: Within 2000 ft. of flammable or explosive material, Secured Area

Bldg. 82A

Fernald Environmental Mgmt Project

Fernald Co: Hamilton OH 45013-

Landholding Agency: Energy

Property Number: 41199910018

Status: Excess

Reasons: Within 2000 ft. of flammable or explosive material, Secured Area

Bldg. 02

RMI Environmental Services

Ashtabula Co: OH 44004-

Landholding Agency: Energy

Property Number: 41199930008

Status: Unutilized

Reason: Secured Area

Bldg. 06

RMI Environmental Services

Ashtabula Co: OH 44004-

Landholding Agency: Energy

Property Number: 41199930009

Status: Unutilized

Reason: Secured Area

Bldg. 09

RMI Environmental Services

Ashtabula Co: OH 44004-

Landholding Agency: Energy

Property Number: 41199930011

Status: Unutilized

Reason: Secured Area

Bldg. 11

RMI Environmental Services

Ashtabula Co: OH 44004-

Landholding Agency: Energy

Property Number: 41199930012

Status: Unutilized

Reason: Secured Area

Bldg. 12

RMI Environmental Services

Ashtabula Co: OH 44004-

Landholding Agency: Energy

Property Number: 41199930013

Status: Unutilized

Reason: Secured Area

Bldg. 13

RMI Environmental Services

Ashtabula Co: OH 44004-

Landholding Agency: Energy

Property Number: 41199930014

Status: Unutilized

Reason: Secured Area

Bldgs. 14 & 15

RMI Environmental Services

Ashtabula Co: OH 44004-

Landholding Agency: Energy

Property Number: 41199930015

Status: Unutilized

Reason: Secured Area

Bldg. 16

RMI Environmental Services

Ashtabula Co: OH 44004-

Landholding Agency: Energy

Property Number: 41199930016

Status: Unutilized

Reason: Secured Area

Bldg. 22

RMI Environmental Services

Ashtabula Co: OH 44004-

Landholding Agency: Energy

Property Number: 41199930018

Status: Unutilized

Reason: Secured Area

Bldg. 24

RMI Environmental Services

Ashtabula Co: OH 44004-

Landholding Agency: Energy

Property Number: 41199930019

Status: Unutilized

Reason: Secured Area

Toledo Harbor Lighthouse

Lake Erie

Toledo Co: Lucas OH 43611-

Landholding Agency: GSA

Property Number: 54199710014

Status: Excess

Reason: Inaccessible

GSA Number: 1-U-OH-801

Toledo Federal Building

234 Summit Avenue

Toledo Co: Lucas OH 43604-

Landholding Agency: GSA

Property Number: 54199810014

Status: Excess

Reason: Within 2000 ft. of flammable or explosive material

GSA Number: 1-G-H-804

Oklahoma

Bldgs. 4a, 4b, 6, 8, 9, 11, 12

NIPER

Bartlesville Co: Washington OK 74003-

Landholding Agency: Energy

Property Number: 41199720003

Status: Unutilized

Reason: Extensive deterioration

Oregon

Portion, Former Kingley Field Air Force Base

Arnold Ave. & Joe Wright Rd.

Klamath Falls Co: Klamath OR 97603-

Landholding Agency: GSA

Property Number: 54199810003

Status: Unutilized

Reason: Within 2000 ft. of flammable or explosive material

GSA Number: 10-D-OR-434-J

Troutdale Materials Lab

Troutdale Co: Multnomah OR 97060-9501

Landholding Agency: GSA

Property Number: 54199830009

Status: Surplus

Reason: Within 2000 ft. of flammable or explosive material

GSA Number: 9-D-OR-729

Pennsylvania

Z-Bldg.

Bettis Atomic Power Lab

West Mifflin Co: Alleghey PA 15122-0109

Landholding Agency: Energy

Property Number: 41199720002

Status: Excess

Reason: Extension deterioration

Weiland Prop. —Sound Studio

Gettysburg Co: Adams PA 17325-

Landholding Agency: Interior

Property Number: 61199810013

Status: Excess

Reason: Extensive deterioration

YCC1 Garage

Briscoe Mtn. Road

Dingman's Ferry Co: Monroe PA 18324-

Landholding Agency: Interior

Property Number: 61200010011

Status: Unutilized

Reason: Extensive deterioration

Biology Field Station

Brisco Mtn. Road

Dingman's Ferry Co: Monroe PA 18328-

Landholding Agency: Interior

Property Number: 61200010012

Status: Unutilized

Reason: Extensive deterioration

Puerto Rico

Dry Dock & Ship Repair Fac.

U.S. Navy

San Juan PR

Landholding Agency: GSA

Property Number: 54199710012

Status: Excess

Reasons: Within 2000 ft. of flammable or explosive material, Floodway

GSA Number: 1-N-PR-491

Puerto Rico

NIH Primate Research Facility

Sabena Seca PR

Landholding Agency: GSA

Property Number: 54199720021

Status: Excess

Reason: landlocked

GSA Number: 1-H-PR-503

Tennessee

Bldg. 204

Cordell Hull Lake and Dam Project

Defeated Creek Recreation Area

Carthage Co: Smith TN 37030-

Location: US Highway 85

Landholding Agency: COE

Property Number: 31199011499

Status: Unutilized

Reason: Floodway

Tract 2618 (Portion)

Cordell Hull Lake and Dam Project

Roaring River Recreation Area

Gainesboro Co: Jackson TN 38562-

Location: TN Highway 135

Landholding Agency: COE

Property Number: 31199011503

Status: Underutilized

Reason: Floodway

Water Treatment Plant

Dale Hollow Lake & Dam Project

Obey River Park, State Hwy 42

Livingston Co: Clay TN 38351-

Landholding Agency: COE

Property Number: 31199140011

Status: Excess

Reason: water treatment plant

Water Treatment Plant

Dale Hollow Lake & Dam Project

Lillydale Recreation Area, State Hwy 53

Livingston Co: Clay TN 38351-

Landholding Agency: COE

Property Number: 31199140012

Status: Excess

Reason: water treatment plant

Water Treatment Plant

Dale Hollow Lake & Dam Project

Willow Grove Recreational Area, Hwy No. 53

Livingston Co: Clay TN 38351-

Landholding Agency: COE

Property Number: 31199140013

Status: Excess

Reason: water treatment plant

Caretakers Facilities

Lock 7

Old Hickory Lock & Dam

Carthage Co: Smith TN 37030-

Landholding Agency: COE

Property Number: 31200010002

Status: Unutilized

Reason: Extensive deterioration

Bldg. 3004

Oak Ridge National Lab

Oak Ridge Co: Roane TN 37831-

Landholding Agency: Energy

Property Number: 41199710002

Status: Unutilized

Reasons: Secured Area, Extensive deterioration

Bldg. 3004

Oak Ridge National Lab

Oak Ridge Co: Roane TN 37831-

Landholding Agency: Energy

Property Number: 41199720001

Status: Excess

Reason: Extensive deterioration

Bldgs. 9714-3, 9714-4, 9983-AY Y-12 Pistol Range

Oak Ridge Co: Anderson TN 37831-

Landholding Agency: Energy

Property Number: 41199720004

Status: Unutilized

Reason: Secured Area

5 Bldgs.

K-724, K-725, K-1031, K-1131, K1410

East Tennessee Technology Park

Oak Ridge Co: Roane TN 37831-

Landholding Agency: Energy

Property Number: 41199730001

Status: Unutilized

Reason: Extensive deterioration

Bldg. 9418-1

Y-12 Plant

Oak Ridge Co: Anderson TN 37831-

Landholding Agency: Energy

Property Number: 41199810026

Status: Unutilized

Reasons: Secured Area, Extensive deterioration

Bldg. 9825

Y-12 Plant

Oak Ridge Co: Anderson TN 37831-

Landholding Agency: Energy

Property Number: 41199810027

Status: Unutilized

Reason: Secured Area

Bldg. 3026

Oak Ridge Natl Lab

Oak Ridge Co: Roane TN 37831-

Landholding Agency: Energy

Property Number: 41199830001

Status: Excess

Reasons: Secured Area; Extensive deterioration

Bldg. 3505

Oak Ridge National Lab

Oak Ridge Co: Roane TN 37831-

Landholding Agency: Energy

Property Number: 41199940020

Status: Unutilized

Reasons: Secured Area, Extensive deterioration

9 Bldgs.

E. Tennessee Tech Park

Oak Ridge Co: Roane TN 37831-

Location: K-1001, K-1301, K-1302, K-1303, K-1404, K-1405-6, K-1407, K-1408A, K-1413

Landholding Agency: Energy

Property Number: 41200010023

Status: Unutilized

Reasons: Secured Area, Extensive deterioration

22 Bldgs.

Volunteer Army Ammunition Plant

Warehouses (Southern Portion)

Chattanooga Co: Hamilton TN 37421-

Landholding Agency: GSA

Property Number: 54199930016

Status: Surplus

Reason: Within 2000 ft. of flammable or explosive material

GSA Number: 4-D-TN-594F

17 Bldgs.

Volunteer Army Ammunition Plant

Acid Production

Chattanooga Co: Hamilton TN 37421-

Landholding Agency: GSA

Property Number: 54199930017

Status: Surplus

Reasons: Within 2000 ft. of flammable or explosive material contamination

GSA Number: 4-D-TN-594F

41 Facilities

Volunteer Army Ammunition Plant

TNT Production

Chattanooga Co: Hamilton TN 37421-

Landholding Agency: GSA

Property Number: 54199930018

Status: Surplus

Reason: Contamination

GSA Number: 4-D-TN-594F

5 Facilities

Volunteer Army Ammunition Plant

Waste Water Treatment

Chattanooga Co: Hamilton TN 37421-

Landholding Agency: GSA

Property Number: 54199930019

Status: Surplus

Reason: Extensive deterioration

GSA Number: 4-D-TN-594F

6 Bldgs.

Volunteer Army Ammunition Plant

Offices (Southern Portion)

Chattanooga Co: Hamilton TN 37421-

Landholding Agency: GSA

Property Number: 54199930023

Status: Surplus

Reason: Within 2000 ft. of flammable or explosive material

GSA Number: 4-D-TN-594F

Tract 01-205

Stones River Natl Battlefield

Murfreesboro Co: Rutherford TN 37129-

Landholding Agency: Interior

Property Number: 61199940010

Status: Unutilized

Reason: Extensive deterioration

Elkmont Maint/Ofc Bldg

Great Smoky Mtns Natl Park

N. District

Gatlinburg Co: Sevier TN 37738-

Landholding Agency: Interior

Property Number: 61199940011

Status: Unutilized

Reason: Extensive deterioration

Guest House 9A

Great Smoky Mtns Natl Park

N. District

Gatlinburg Co: Sevier TN 37738-

Landholding Agency: Interior

Property Number: 61199940012

Status: Unutilized

Reason: Extensive deterioration

Cabin 9B

Great Smoky Mtns Natl Park

N. District

Gatlinburg Co: Sevier TN 37738-

Landholding Agency: Interior

Property Number: 61199940013

Status: Unutilized

Reason: Extensive deterioration

Cabin 12, Sneed's

Great Smoky Mtns Natl Park

N. District

Gatlinburg Co: Sevier TN 37738-

Landholding Agency: Interior

Property Number: 61199940014

Status: Unutilized

Reason: Extensive deterioration

Cabin 14

Great Smoky Mtns Natl Park

N. District

Gatlinburg Co: Sevier TN 37738-

Landholding Agency: Interior

Property Number: 61199940015

Status: Unutilized

Reason: Extensive deterioration

Cabin 16, Burdette's

Great Smoky Mtns Natl Park

N. District

Gatlinburg Co: Sevier TN 37738-

Landholding Agency: Interior

Property Number: 61199940016

Status: Unutilized

Reason: Extensive deterioration

Cabin 17, Bagley's

Great Smoky Mtns Natl Park

N. District

Gatlinburg Co: Sevier TN 37738-

Landholding Agency: Interior

Property Number: 61199940017

Status: Unutilized

Reason: Extensive deterioration

Cabin 20, Andrews

Great Smoky Mtns Natl Park

N. District

Gatlinburg Co: Sevier TN 37738-

Landholding Agency: Interior

Property Number: 61199940018

Status: Unutilized

Reason: Extensive deterioration

Cabin 25, Franklins

Great Smoky Mtns Natl Park

N. District

Gatlinburg Co: Sevier TN 37738-

Landholding Agency: Interior

Property Number: 61199940019

Status: Unutilized

Reason: Extensive deterioration

Cabin 26, Hutchins

Great Smoky Mtns Natl Park

N. District

Gatlinburg Co: Sevier TN 37738-

Landholding Agency: Interior

Property Number: 61199940020

Status: Unutilized

Reason: Extensive deterioration

Cabin 43, Brandau's

Great Smoky Mtns Natl Park

N. District

Gatlinburg Co: Sevier TN 37738-

Landholding Agency: Interior

Property Number: 61199940021

Status: Unutilized

Reason: Extensive deterioration

Cabin 44, Parrott's

Great Smoky Mtns Natl Park

N. District

Gatlinburg Co: Sevier TN 37738-

Landholding Agency: Interior

Property Number: 61199940022

Status: Unutilized

Reason: Extensive deterioration

Texas

Station Port Mansfield

Port Mansfield Co: Willary TX 78598-

Landholding Agency: GSA

Property Number: 54199930008

Status: Surplus

Reason: Floodway

GSA Number: 7-U-TX-1057

Portion-Port O'Connor Housing

1125 Brook Hollow Drive

Port Lavaca Co: Calhoun TX 77979-

Landholding Agency: GSA

Property Number: 54199940006

Status: Excess

Reason: Extensive deterioration

GSA Number: 7-U-TX-1056

Log Cabin

Saratoga Unit

Hwy 770

Saratoga Co: Hardin TX 77585-

Landholding Agency: Interior

Property Number: 61199940023

Status: Unutilized

Reason: Extensive deterioration

Smith Property

Tract No. 01-123

Johnson City Co: Blance TX 00000-

Landholding Agency: Interior

Property Number: 61200010010

Status: Unutilized

Reason: Extensive deterioration

Washington

Bldg. 844

Former Park Place Enlisted Club

808 Burwell St.

Bremerton Co: Kitsap WA 98314-

Landholding Agency: GSA

Property Number: 54199840002

Status: Excess

Reason: Within 2000 ft. of flammable or explosive material

GSA Number: 9-D-WA-1164

Bldgs. 1158, 1159

Ross Lake Natl Recreation Area

Co: Whatcom WA

Landholding Agency: Interior

Property Number: 61199820001

Status: Unutilized

Reason: Extensive deterioration

N3202, Residence

Pasco Co: Franklin WA 99301-

Landholding Agency: Interior

Property Number: 61199910014

Status: Excess

Reason: Extensive deterioration

N3204, Residence

Pasco Co: Franklin WA 99301-

Landholding Agency: Interior

Property Number: 61199910015

Status: Excess

Reason: Extensive deterioration

N3206, Residence

Pasco Co: Franklin WA 99301-

Landholding Agency: Interior

Property Number: 61199910016

Status: Excess

Reason: Extensive deterioration

West Virginia

Thomas House, Tract 173-20

New River Gorge National River

Glen Jean Co: Fayette WV 25846-

Landholding Agency: Interior

Property Number: 61199910009

Status: Excess

Reason: Extensive deterioration

Cole House, Tract 153-07

New River Gorge National River

Fayetteville Co: Fayette WV 25840-

Landholding Agency: Interior

Property Number: 61199910010

Status: Excess

Reason: Extensive deterioration

Vento House, Tract 173-17

New River Gorge National River

Glen Jean Co: Fayette WV 25846-

Landholding Agency: Interior

Property Number: 61199910011

Status: Excess

Reason: Extensive deterioration

Wisconsin

2 Offshore Lighthouses

Great Lakes WI

Landholding Agency: GSA

Property Number: 54199630016

Status: Excess

Reason: Extensive deterioration

Land (by State)

Arizona

Lamoreaux Property

Case # 99-030

Gilbert Co: Maricopa AZ 85296-

Landholding Agency: Interior

Property Number: 61200010013

Status: Unutilized

Reason: no public access

Parcel SG-1-96, SG-1-138

T1N, R7E, Secs 22&23

Mesa Co: Maricopa AZ 85027

Landholding Agency: Interior

Property Number: 61200010014

Status: Unutilized

Reason: no public access

Arkansas

0.426 acres

Former Lower Level Windshear

Alert Sys #4

Litter Rock Co: Pulaski AR 57501-

Landholding Agency: GSA

Property Number: 54199910016

Status: Surplus

Reasons: Within airport runway clear zone, floodway

GSA Number: 7-U-AR-555

California

Excess Land at Eureka Housing

Eureka Co: Humboldt CA 95501-

Landholding Agency: GSA

Property Number: 87199540001

Status: Excess

Reason: inaccessible

GSA Number: 9UCA1527

Florida

(P) Ponce de Leon Inlet

2999 N. Peninsula Ave.

New Smyrna Beach Co: Volusia FL 32169-

Landholding Agency: GSA

Property Number: 54199940015

Status: Excess

Reason: Floodway

GSA Number: 4-U-FL-1170

Guam

Submerged Lands

Ritidian Point GU

Landholding Agency: GSA

Property Number 54199640003

Status: Excess

Reason: Inaccessible

GSA Number: 9-N-GU-437

Idaho

7.9 acre parcel

Portions of Sec. 15

American Falls Co: Power ID 83211-

Landholding Agency: Interior

Property Number 61200010015

Status: Excess

Reason: no public access

Kentucky

Tract 4626

Barkley, Lake, Kentucky and Tennessee Donaldson Creek Launching Area

Cadiz Co: Trigg KY 42211-

Location: 14 miles from US Highway 68.

Landholding Agency: COE

Property Number: 31199010030

Status: Underutilized

Reason: Floodway

Tract AA-2747

Wolf Creek Dam and Lake

Cumberland

US HWY. 27 to Blue John Road

Burnside Co: Pulaski KY 42519-

Landholding Agency: COE

Property Number: 31199010038

Status: Underutilized

Reason: Floodway

Tract AA-2726

Wolf Creek Dam and Lake

Cumberland

KY HWY. 80 to route 769

Burnside Co: Pulaski KY 42519-

Landholding Agency: COE

Property Number: 31199010039

Status: Underutilized

Reason: Floodway

Tract 1358

Barkley Lake, Kentucky and

Tennessee

Eddyville Recreation Area

Eddyville Co: Lyon KY 42038-

Location: US Highway 62 to state highway 93.

Landholding Agency: COE

Property Number: 31199010043

Status: Excess

Reason: Floodway

Red River Lake Project

Stanton Co: Powell KY 40380-

Location: Exit Mr. Parkway at the Stanton and Slade Interchange, then take SR Hand 15 north to SR 613.

Landholding Agency: COE

Property Number: 31199011684

Status: Unutilized

Reason: Floodway

Barren River Lock & Dam No. 1

Richardsville Co: Warren KY 42270-

Landholding Agency: COE

Property Number: 31199120008

Status: Unutilized

Reason: Floodway

Green River Lock & Dam No. 3

Rochester Co: Butler KY 42273-

Location: Off State Hwy. 369, which runs off of Western Ky. Parkway

Landholding Agency: COE

Property Number: 31199120009

Status: Unutilized

Reason: Floodway

Green River Lock & Dam No. 4

Woodbury Co: Butler KY 42288-

Location: Off State Hwy. 403, which is off of State Hwy. 231

Landholding Agency: COE

Property Number: 31199120014

Status: Underutilized

Reason: Floodway

Green River Lock & Dam No. 5

Readville Co: Butler KY 42275-

Location: Off State Highway 185

Landholding Agency: COE

Property Number: 31199120015

Status: Unutilized

Reason: Floodway

Green River Lock & Dam No. 6

Brownsville Co: Edmonson KY 42210-

Location: Off State Highway 259

Landholding Agency: COE

Property Number: 31199120016

Status: Underutilized

Reason: Floodway

Vacant land west of locksite

Greenup Locks and Dam

5121 New Dam Road

Rural Co: Greenup KY 41144-

Landholding Agency: COE

Property Number: 31199120017

Status: Unutilized

Reason: Floodway

Tract 6404, Cave Run Lake

U.S. Hwy 460

Index Co: Morgan KY

Landholding Agency: COE

Property Number: 31199240005

Status: Underutilized

Reason: Floodway

Tract 6803, Cave Run Lake

State Road 1161

Pomp Co: Morgan KY

Landholding Agency: COE

Property Number: 31199240006

Status: Underutilized

Reason: Floodway

8.04 acres

Taylorsville Lake Project

Taylorsville Co: Spenser KY 40071-9801

Landholding Agency: COE

Property Number: 31199840003

Status: Unutilized

Reason: inaccessible

Patriot Boat Ramp Land

Wade & Goose Creeks

Patriot Co: Boone KY 00000-

Landholding Agency: COE

Property Number: 31200010003

Status: Unutilized

Reason: Floodway

9 Tracts

Daniel Boone National Forest

Co: Owsley KY 37902-

Landholding Agency: GSA

Property Number: 54199620012

Status: Excess

Reason: Floodway

GSA Number: 4-G-KY-607

Maryland

Tract 131R

Youghiogheny River Lake, Rt. 2, Box 100

Friendsville Co: Garrett MD

Landholding Agency: COE

Property Number: 31199240007

Status: Underutilized

Reason: Floodway

Michigan

Port/EPA Large Lakes Rsch Lab

Grosse Ile Twp Co: Wayne MI

Landholding Agency: GSA

Property Number: 54199720022

Status: Excess

Reason: Within airport runway clear zone

GSA Number: 1-Z-MI-554-A

Minnesota

Parcel G

Pine River

Cross Lake Co: Crow Wing MN 56442-

Location: 3 miles from city of Cross Lake between highways 6 and 371.

Landholding Agency: COE

Property Number: 31199011037

Status: Excess

Reason: highway right of way

Mississippi

Parcel 1

Grenada Lake

Section 20

Grenada Co: Grenada MS 38901-0903

Landholding Agency: COE

Property Number: 31199011018

Status: Underutilized

Reason: Within airport runway clear zone

Missouri

Ditch 19, Item 2, Tract No. 230

St. Francis Basin Project

2½ miles west of Malden

Co: Dunklin MO

Landholding Agency: COE

Property Number: 31199130001

Status: Unutilized

Reason: Floodway

New York

Braddock Point Light Land

0.8 acres

Parma Co: NY 10950-

Landholding Agency: GSA

Property Number: 54199910021

Status: Excess

Reason: inaccessible

GSA Number: 1-U-NY-870

Ohio

Mosquito Creek Lake

Everett Hull Road Boat Launch

Cortland Co: Trumbull OH 44410-9321

Landholding Agency: COE

Property Number: 31199440007

Status: Underutilized

Reason: Floodway

Mosquito Creek Lake

Housel—Craft Rd., Boat Launch

Cortland Co: Trumbull OH 44410-9321

Landholding Agency: COE

Property Number: 31199440008

Status: Underutilized

Reason: Floodway

36 Site Campground

German Church Campground

Berlin Center Co: Portage OH 44401-9707

Landholding Agency: COE

Property Number: 31199810001

Status: Unutilized

Reason: Floodway

Lewis Research Center

Cedar Point Road

Cleveland Co: Cuyahoga OH 44135-

Landholding Agency: GSA

Property Number: 54199610007

Status: Excess

Reason: Within 2000 ft. of flammable or explosive material, within airport runway clear zone

GSA Number: 2-Z-OH-598-I

Pennsylvania

Lock and Dam #7

Monongahela River

Greensboro Co: Greene PA

Location: Left hand side of entrance roadway to project.

Landholding Agency: COE

Property Number: 31199011564

Status: Unutilized

Reason: Floodway

Mercer Recreation Area

Shenango Lake

Transfer Co: Mercer PA 16154-

Landholding Agency: COE

Property Number: 31199810002

Status: Unutilized

Reason: Floodway

Grays Landing

Tract B, 101-07

Co: Fayette PA

Landholding Agency: GSA

Property Number: 54199810005

Status: Excess

Reason: landlocked

GSA Number: 4-D-PA-784

Puerto Rico

119.3 acres

Culebra Island PR 00775-

Landholding Agency: Interior

Property Number: 61199210001

Status: Excess

Reason: Floodway

Tennessee

Brooks Bend

Cordell Hull Dam and Reservoir

Highway 85 to Brooks Bend Road

Gainsboro Co: Jackson TN 38562-

Location: Tracts 800, 802-806, 835-837, 900-902, 1000-1003, 1025

Landholding Agency: COE

Property Number: 21199040413

Status: Underutilized

Reason: Floodway

Cheatham Lock and Dam

Highway 12

Ashland City Co: Cheatham TN 37015-

Location: Tracts E-513, E-512-1 and E-512-2

Landholding Agency: COE

Property Number: 21199040415

Status: Underutilized

Reason: Floodway

Tract 6737

Blue Creek Recreation Area

Barkley Lake, Kentucky and Tennessee

Dover Co: Stewart TN 37058-

Location: U.S. Highway 79/TN Highway 761

Landholding Agency: COE

Property Number: 31199011478

Status: Underutilized

Reason: Floodway

Tracts 3102, 3105, and 3106

Brimstone Launching Area

Cordell Hull Lake and Dam Project

Gainesboro Co: Jackson TN 38562-

Location: Big Bottom Road

Landholding Agency: COE

Property Number: 31199011479

Status: Excess

Reason: Floodway

Tract 3507

Proctor Site

Cordell Hull Lake and Dam Project

Celina Co: Clay TN 38551-

Location: TN Highway 52

Landholding Agency: COE

Property Number: 31199011480

Status: Unutilized

Reason: Floodway

Tract 3721

Obey

Cordell Hull Lake and Dam Project

Celina Co: Clay TN 38551-

Location: TN Highway 53

Landholding Agency: COE

Property Number: 31199011481

Status: Unutilized

Reason: Floodway

Tracts 608, 609, 611 and 612

Sullivan Bend Launching Area

Cordell Hull Lake and Dam Project

Carthage Co: Smith TN 37030-

Location: Sullivan Bend Road

Landholding Agency: COE

Property Number: 31199011482

Status: Underutilized

Reason: Floodway

Tract 920

Indian Creek Camping Area

Cordell Hull Lake and Dam Project

Granville Co: Smith TN 38564-

Location: TN Highway 53

Landholding Agency: COE

Property Number: 31199011483

Status: Underutilized

Reason: Floodway

Tracts 1710, 1716 and 1703

Flynns Lick Launching Ramp

Cordell Hull Lake and Dam Project

Gainesboro Co: Jackson TN 38562-

Location: Whites Bend Road

Landholding Agency: COE

Property Number: 31199011484

Status: Underutilized

Reason: Floodway

Tract 1810

Wartrace Creek Launching Ramp

Cordell Hull Lake and Dam Project

Gainesboro Co: Jackson TN 38551-

Location: TN Highway 85

Landholding Agency: COE

Property Number: 31199011485

Status: Underutilized

Reason: Floodway

Tract 2524

Jennings Creek

Cordell Hull Lake and Dam Project

Gainesboro Co: Jackson TN 38562-

Location: TN Highway 85

Landholding Agency: COE

Property Number: 31199011486

Status: Unutilized

Reason: Floodway

Tracts 2905 and 2907

Webster

Cordell Hull Lake and Dam Project

Gainesboro Co: Jackson TN 38551-

Location: Big Bottom Road

Landholding Agency: COE

Property Number: 31199011487

Status: Unutilized

Reason: Floodway

Tracts 2200 and 2201

Gainesboro Airport

Cordell Hull Lake and Dam Project

Gainesboro Co: Jackson TN 38562

Location: Big Bottom Road

Landholding Agency: COE

Property Number: 31199011488

Status: Underutilized

Reason: Within airport runway clear zone, Floodway

Tracts 710C and 712C

Sullivan Island

Cordell Hull Lake and Dam Project

Carthage Co: Smith TN 37030-

Location: Sullivan Bend Road

Landholding Agency: COE

Property Number: 31199011489

Status: Unutilized

Reason: Floodway

Tracts 2403, Hensley Creek

Cordell Hull Lake and Dam Project

Gainesboro Co: Jackson TN 38562-

Location: TN Highway 85

Landholding Agency: COE

Property Number: 31199011490

Status: Unutilized

Reason: Floodway

Tracts 2117C, 2118, and 2120

Cordell Hull Lake and Dam Project

Trace Creek

Gainesboro Co: Jackson TN 38562-

Location: Brooks Ferry Road

Landholding Agency: COE

Property Number: 31199011491

Status: Unutilized

Reason: Floodway

Tracts 424, 425 and 426

Cordell Hull Lake and Dam Project

Stone Bridge

Carthage Co: Smith TN 37030-

Location: Sullivan Bend Road

Landholding Agency: COE

Property Number: 31199011492

Status: Unutilized

Reason: Floodway

Tract 517

J. Percy Priest Dam and Reservoir

Suggs Creek Embayment

Nashville Co: Davidson TN 37214-

Location: 40 to S. Mount Juliet Road.

Landholding Agency: COE

Property Number: 31199011493

Status: Underutilized

Reason: Floodway

Tract 1811

West Fork Launching Area

Smyrna Co: Rutherford TN 37167-

Location: Florence Road near Enon Springs Road

Landholding Agency: COE

Property Number: 31199011494

Status: Underutilized

Reason: Floodway

Tract 1504

J. Perry Priest Dam and Reservoir

Lamon Hill Recreation Area

Smyrna Co: Rutherford TN 37167-

Location: Lamon Road

Landholding Agency: COE

Property Number: 31199011495

Status: Underutilized

Reason: Floodway

Tract 1500

J. Perry Priest Dam and Reservoir

Pools Knob Recreation

Smyrna Co: Rutherford TN 37167-

Location: Jones Mill Road

Landholding Agency: COE

Property Number: 31199011496

Status: Underutilized

Reason: Floodway

Tracts 245, 257, and 256

J. Perry Priest Dam and Reservoir

Cook Recreation Area

Nashville Co: Davidson TN 37214-

Location: 2.2 miles south of Interstate 40 near Saunders Ferry Pike.

Landholding Agency: COE

Property Number: 31199011497

Status: Underutilized

Reason: Floodway

Tracts 107, 109 and 110

Cordell Hull Lake and Dam Project

Two Prong

Carthage Co: Smith TN 37030-

Location: US Highway 85

Landholding Agency: COE

Property Number: 31199011498

Status: Unutilized

Reason: Floodway

Tracts 2919 and 2929

Cordell Hull Lake and Dam Project

Sugar Creek

Gainesboro Co: Jackson TN 38562-

Location: Sugar Creek Road

Landholding Agency: COE

Property Number: 31199011500

Status: Unutilized

Reason: Floodway

Tracts 1281 and 1204

Cordell Hull Lake and Dan Project

Granville—Alvin Yourk Road

Granville Co: Jackson TN 38564-

Landholding Agency: COE

Property Number: 31199011501

Status: Unutilized

Reason: Floodway

Tract 2100

Cordell Hull Lake and Dam Project

Gailbreaths Branch

Gainesboro Co: Jackson TN 38562-

Location: TN Highway 53

Landholding Agency: COE

Property Number: 31199011502

Status: Unutilized

Reason: Floodway

Tract 104 et al.

Cordell Hull Lake and Dam Project

Horshoe Bend Launching Area

Carthage Co: Smith TN 37030-

Location: Highway 70 N

Landholding Agency: COE

Property Number: 31199011504

Status: Underutilized

Reason: Floodway

Tracts 510, 511, 513 and 514

J. Percy Priest Dam and Reservoir Project

Lebanon Co: Wilson TN 37087-

Location: Vivrett Creek Launching Area, Alvin Sperry Road

Landholding Agency: COE

Property Number: 31199120007

Status: Underutilized

Reason: Floodway

Tract A-142, Old Hickory Beach

Old Hickory Blvd.

Old Hickory Co: Davidson TN 37138-

Landholding Agency: COE

Property Number: 31199130008

Status: Underutilized

Reason: Floodway

Texas

Tracts 104, 105-1, 105-2 & 118

Joe Pool Lake

Co: Dallas TX

Landholding Agency: COE

Property Number: 31199010397

Status: Underutilized

Reason: Floodway

Part of Tract 201-3

Joe Pool Lake

Co: Dallas TX

Landholding Agency: COE

Property Number: 31199010398

Status: Underutilized

Reason: Floodway

Part of Tract 323

Joe Pool Lake

Co: Dallas TX

Landholding Agency: COE

Property Number: 31199010399

Status: Underutilized

Reason: Floodway

Tract 702-3

Granger Lake

Route 1, Box 172

Granger Co: Williamson TX 76530-9801

Landholding Agency: COE

Property Number: 31199010401

Status: Unutilized

Reason: Floodway

Tract 706

Granger Lake

Route 1, Box 172

Granger Co: Williamson TX 76530-9801

Landholding Agency: COE

Property Number: 31199010402

Status: Unutilized

Reason: Floodway

Washington

Spokane Satellite Tracking #1

Fairchild AFB

Portion of Site

Spokane WA 99224-

Landholding Agency: COE

Property Number: 18199810028

Status: Excess

Reason: Within 2000 ft. of flammable or explosive material

GSA Number: 9-D-WA-1172

West Virginia

Morgantown Lock and Dam

Box 3 RD #2

Morgantown Co: Monongahelia WV 26505-

Landholding Agency: COE

Property Number: 31199011530

Status: Unutilized

Reason: Floodway

London Lock and Dam

Route 60 East

Rural Co: Kanawha WV 25126-

Location: 20 miles east of Charleston, W. Virginia.

Landholding Agency: COE

Property Number: 31199011690

Status: Unutilized

Reason: .03 acres; very narrow strip of land

Portion of Tract #101

Buckeye Creek

Sutton Co: Braxton WV 26601-

Landholding Agency: COE

Property Number: 31199810006

Status: Excess

Reason: inaccessible

Wyoming

Cody Industrial Area

Cody Co: Park WY 82414-

Landholding Agency: GSA

Property Number: 54199740008

Status: Excess

Reason: Within 2000 ft. of flammable or explosive material

GSA Number: 7-I-WY-0539

[FR Doc. 00-4312 Filed 2-24-00; 8:45 am]

BILLING CODE 4210-29-M